POSTAL SERVICE

Transfer of Additional Post Office Box Locations to Competitive Fee Groups

AGENCY: Postal Service™.

ACTION: Notice with opportunity for comments.

SUMMARY: The Postal Service hereby provides notice that Post Office Box™ service for approximately 1,625 locations will be reassigned from their market-dominant fee groups to competitive fee groups.

DATES: Effective date: August 27, 2014.

ADDRESSES: Please address all written comments regarding this notice to United States Postal Service, Retail Services, Room 6801, 475 L'Enfant Plaza SW., Washington, DC 20260-5013.

FOR FURTHER INFORMATION CONTACT: Direct questions or comments to:

Frank Ippolito, Retail Services, frank.p.ippolito@usps.gov, 202-268-4681; or

David Rubin, General Counsel, david.h.rubin@usps.gov, 202-268-2986.

SUPPLEMENTARY INFORMATION: Locations providing Post Office Box service are classified as competitive or market-dominant and assigned to fee groups based upon the Post Office location and other criteria. Competitive fee groups provide more services than market-dominant ones, and have somewhat higher fees.

In May 2011, a Request of the United States Postal Service was filed with the Postal Regulatory Commission (PRC) to transfer approximately 6,800 PO Box locations from market-dominant to competitive fee groups, PRC Docket No. MC2011-25. Documents pertinent to that proceeding are available at www.prc.gov, Docket No. MC2011-25. At that time, the Postal Service advised the PRC that a Federal Register notice would be filed when future PO Box locations are transferred.

Since the original filing, the Postal Service expanded the competitive service to an additional location, see 79 FR 60928-60929 (Oct. 2, 2013), and is now expanding to additional locations. Competitive Post Office Box service includes several enhancements such as: electronic notification of the receipt of mail, use of an alternate street address format, signature on file for delivery of certain accountable mail, and additional hours of access and/or earlier availability of mail in some locations.

Since 2011, the Postal Service has expanded its use of competitive data to identify locations that qualify for reassignment to competitive status. This analysis identified approximately 1,625 locations which are eligible to be classified as competitive and assigned to a competitive Post Office Box fee group. These include Puerto Rican locations with nearby competitors that were omitted in 2011 but are included now. A list of affected locations, with the associated ZIP Codes, is provided in the Appendix to this notice.

Stanley F. Mires,
Attorney, Legal Policy & Legislative Advice.

Appendix

Transfer of Additional Post Office Box Locations to Competitive Fee Group—ZIP Code Listing

The following is a list of the locations which are described in the Notice above as qualifying for reassignment from market-dominant to competitive fee groups. The list is sorted by ZIP Code in ascending numerical order with geographical breaks and headers. As indicated by the column headings, this list provides the ZIP Code of the affected PO Boxes (ZIP), the office name of the location (OFFICE NAME), the city where the PO Boxes are located (CITY), the current market-dominant fee group (CFG), and the new competitive fee group (NFG).

Please note that there are more ZIP Codes than locations being moved to competitive fee groups, because some locations serve more than one ZIP Code. These locations can be identified whenever multiple ZIP Codes are listed for a single office name.

Transfer of Additional Post Office Box Locations to Competitive Fee Group—ZIP Code Listing
ZIP | Office name | City | CFG | NFG
PUERTO RICO
00601 | ADJUNTAS | ADJUNTAS | 3 | 33
00602 | AGUADA | AGUADA | 2 | 32
00604 | RAMEY | AGUADILLA | 3 | 33
00605 | AGUADILLA | AGUADILLA | 3 | 33
00605 | VICTORIA | AGUADILLA | 3 | 33
00606 | MARICAO | MARICAO | 3 | 33
00610 | ANASCO | ANASCO | 4 | 34
00611 | ANGELES | ANGELES | 4 | 34
00613 | ARECIBO PUEBLO | ARECIBO | 3 | 33
00613 | COTTO | ARECIBO | 3 | 33
00614 | ARECIBO | ARECIBO | 3 | 33
00616 | BAJADERO | BAJADERO | 5 | 35
00617 | BARCELONETA | BARCELONETA | 3 | 33
00623 | CABO ROJO | CABO ROJO | 2 | 32
00624 | PENUELAS | PENUELAS | 3 | 33
00627 | CAMUY | CAMUY | 3 | 33
00637 | SABANA GRANDE | SABANA GRANDE | 2 | 32
00638 | CIALES | CIALES | 3 | 33
00641 | UTUADO | UTUADO | 3 | 33
00646 | DORADO | DORADO | 3 | 33
00647 | ENSENADA | ENSENADA | 3 | 33
00650 | FLORIDA | FLORIDA | 3 | 33
00652 | GARROCHALES | GARROCHALES | 6 | 36
00653 | GUANICA | GUANICA | 2 | 32
00656 | GUAYANILLA | GUAYANILLA | 3 | 33
00659 | HATILLO | HATILLO | 3 | 33
00660 | HORMIGUEROS | HORMIGUEROS | 3 | 33
00662 | ISABELA | ISABELA | 3 | 33
00667 | LAJAS | LAJAS | 3 | 33
00669 | LARES | LARES | 1 | 31
00670 | LAS MARIAS | LAS MARIAS | 5 | 35
00674 | MANATI | MANATI | 3 | 33
00676 | MOCA | MOCA | 3 | 33
00676 | VOLADORAS CONTRACT STATION | MOCA | 3 | 40
00677 | RINCON | RINCON | 2 | 32
00678 | QUEBRADILLAS | QUEBRADILLAS | 3 | 33
00680 | SALUD CONTRACT | MAYAGUEZ | 2 | 39
00681 | MARINA | MAYAGUEZ | 2 | 32
00681 | MAYAGUEZ | MAYAGUEZ | 2 | 32
00683 | SAN GERMAN | SAN GERMAN | 3 | 33
00685 | JUNCAL CONTRACT | SAN SEBASTIAN | 2 | 39
00685 | SAN SEBASTIAN | SAN SEBASTIAN | 2 | 32
00687 | MOROVIS | MOROVIS | 3 | 33
00688 | SABANA HOYOS | SABANA HOYOS | 5 | 35
00690 | SAN ANTONIO | SAN ANTONIO | 2 | 32
00692 | BO MARICAO | VEGA ALTA | 3 | 33
00692 | VEGA ALTA | VEGA ALTA | 3 | 33
00694 | VEGA BAJA | VEGA BAJA | 3 | 33
00698 | YAUCO | YAUCO | 2 | 32
00703 | AGUAS BUENAS | AGUAS BUENAS | 3 | 33
00704 | AGUIRRE | AGUIRRE | 3 | 33
00705 | AIBONITO | AIBONITO | 3 | 33
00707 | MAUNABO | MAUNABO | 3 | 33
00714 | ARROYO | ARROYO | 3 | 33
00715 | MERCEDITA | MERCEDITA | 2 | 32
00718 | NAGUABO | NAGUABO | 2 | 32
00719 | NARANJITO | NARANJITO | 2 | 32
00721 | PALMER | PALMER | 3 | 33
00723 | PATILLAS | PATILLAS | 3 | 33
00726 | CAGUAS | CAGUAS | 3 | 33
00726 | NORTH | CAGUAS | 3 | 33
00729 | CANOVANAS | CANOVANAS | 3 | 33
00732 | PONCE | PONCE | 4 | 34
00733 | ATOCHA | PONCE | 3 | 33
00735 | CEIBA | CEIBA | 2 | 32
00737 | CAYEY | CAYEY | 3 | 33
00738 | FAJARDO | FAJARDO | 2 | 32
00739 | CIDRA | CIDRA | 3 | 33
00740 | PUERTO REAL | PUERTO REAL | 3 | 33
00741 | PUNTA SANTIAGO | PUNTA SANTIAGO | 2 | 32
00744 | RIO BLANCO | RIO BLANCO | 6 | 36
00745 | RIO GRANDE | RIO GRANDE | 3 | 33
00751 | SALINAS | SALINAS | 2 | 32
00754 | SAN LORENZO | SAN LORENZO | 2 | 32
00757 | SANTA ISABEL | SANTA ISABEL | 1 | 31
00766 | VILLALBA | VILLALBA | 3 | 33
00767 | YABUCOA | YABUCOA | 3 | 33
00769 | COAMO | COAMO | 2 | 32
00771 | LAS PIEDRAS | LAS PIEDRAS | 3 | 33
00772 | LOIZA | LOIZA | 3 | 33
00773 | LUQUILLO | LUQUILLO | 3 | 33
00777 | JUNCOS | JUNCOS | 3 | 33
00778 | GURABO | GURABO | 3 | 33
00780 | COTO LAUREL | COTO LAUREL | 2 | 32
00782 | COMERIO | COMERIO | 3 | 33
00783 | COROZAL | COROZAL | 3 | 33
00785 | GUAYAMA | GUAYAMA | 3 | 33
00792 | HUMACAO | HUMACAO | 3 | 33
00794 | BARRANQUITAS | BARRANQUITAS | 2 | 32
00795 | JUANA DIAZ | JUANA DIAZ | 3 | 33
00902 | OLD SAN JUAN | SAN JUAN | 4 | 34
00906 | OLD SAN JUAN | SAN JUAN | 4 | 34
00908 | SANTURCE | SAN JUAN | 2 | 32
00910 | FERNANDEZ JUNCOS | SAN JUAN | 4 | 34
00914 | LOIZA STREET | SAN JUAN | 3 | 33
00916 | BARRIO OBRERO | SAN JUAN | 3 | 33
00919 | HATO REY | SAN JUAN | 3 | 33
00922 | CAPARRA HEIGHTS | GUAYNABO | 3 | 33
00927 | SAN FRANCISCO DLBU | SAN JUAN | 4 | 41
00928 | RIO PIEDRAS | SAN JUAN | 4 | 34
00929 | 65TH INFANTRY | SAN JUAN | 3 | 33
00931 | RIO PIEDRAS | SAN JUAN | 4 | 34
00934 | CAPARRA HEIGHTS | GUAYNABO | 3 | 33
00934 | FORT BUCHANAN | FORT BUCHANAN | 4 | 34
00936 | SAN JUAN | SAN JUAN | 3 | 33
00937 | SAN JUAN AIRPORT RETAIL | CAROLINA | 4 | 34
00940 | MINILLAS CENTER | SAN JUAN | 3 | 33
00950 | TOA BAJA | TOA BAJA | 2 | 32
00951 | TOA BAJA PUEBLO | TOA BAJA | 2 | 32
00952 | SABANA SECA | SABANA SECA | 5 | 35
00954 | TOA ALTA | TOA ALTA | 3 | 33
00957 | BAYAMON GDNS | BAYAMON | 3 | 33
00960 | BAYAMON | BAYAMON | 3 | 33
00961 | BAYAMON CONTRACT STATION | BAYAMON | 3 | 40
00963 | CATANO | CATANO | 4 | 34
00970 | GUAYNABO | GUAYNABO | 2 | 32
00977 | TRUJILLO ALTO | TRUJILLO ALTO | 3 | 33
00981 | SAN JUAN AIRPORT RETAIL | CAROLINA | 4 | 34
00984 | CAROLINA | CAROLINA | 2 | 32
00986 | CAROLINA PUEBLO | CAROLINA | 4 | 34
00988 | PLAZA CAROLINA | CAROLINA | 2 | 32
MASSACHUSETTS
01027 | EASTHAMPTON | EASTHAMPTON | 4 | 34
01035 | HADLEY | HADLEY | 5 | 35
01038 | HATFIELD | HATFIELD | 5 | 35
01061 | NORTHAMPTON | NORTHAMPTON | 4 | 34
01062 | FLORENCE | FLORENCE | 3 | 33
01230 | GREAT BARRINGTON | GREAT BARRINGTON | 2 | 32
01237 | LANESBORO | LANESBORO | 5 | 35
01257 | SHEFFIELD | SHEFFIELD | 5 | 35
01258 | SOUTH EGREMONT | SOUTH EGREMONT | 5 | 35
01266 | WEST STOCKBRIDGE | WEST STOCKBRIDGE | 5 | 35
01505 | BOYLSTON | BOYLSTON | 4 | 34
01507 | CHARLTON | CHARLTON | 4 | 34
01509 | CHARLTON | CHARLTON | 4 | 34
01518 | FISKDALE | FISKDALE | 4 | 34
01525 | LINWOOD | LINWOOD | 4 | 34
01534 | NORTHBRIDGE | NORTHBRIDGE | 4 | 34
01538 | NORTH UXBRIDGE | NORTH UXBRIDGE | 5 | 35
01540 | OXFORD | OXFORD | 1 | 31
01550 | SOUTHBRIDGE | SOUTHBRIDGE | 1 | 31
01566 | STURBRIDGE | STURBRIDGE | 4 | 34
01568 | UPTON | UPTON | 4 | 34
01569 | UXBRIDGE | UXBRIDGE | 1 | 31
01590 | SUTTON | SUTTON | 4 | 34
01746 | HOLLISTON | HOLLISTON | 1 | 31
01748 | HOPKINTON | HOPKINTON | 1 | 31
01756 | MENDON | MENDON | 4 | 34
01757 | MILFORD | MILFORD | 1 | 31
01876 | TEWKSBURY | TEWKSBURY | 1 | 31
01921 | BOXFORD | BOXFORD | 4 | 34
01931 | GLOUCESTER | GLOUCESTER | 2 | 32
01966 | ROCKPORT | ROCKPORT | 1 | 31
01971 | EAST INDIA SQUARE MALL | SALEM | 2 | 32
02020 | OCEAN BLUFF | OCEAN BLUFF | 1 | 31
02035 | FOXBORO | FOXBORO | 1 | 31
02041 | GREEN HARBOR | GREEN HARBOR | 4 | 34
02048 | MANSFIELD | MANSFIELD | 1 | 31
02050 | MARSHFIELD | MARSHFIELD | 1 | 31
02051 | MARSHFIELD HILLS | MARSHFIELD HILLS | 5 | 35
02065 | OCEAN BLUFF | OCEAN BLUFF | 1 | 31
02331 | SNUG HARBOR | DUXBURY | 4 | 34
02455 | NORTH WALTHAM BRANCH | WALTHAM | 2 | 32
02537 | EAST SANDWICH | EAST SANDWICH | 5 | 35
02539 | EDGARTOWN | EDGARTOWN | 4 | 34
02543 | WOODS HOLE | WOODS HOLE | 2 | 32
02563 | SANDWICH | SANDWICH | 5 | 35
02722 | FALL RIVER | FALL RIVER | 1 | 31
02726 | SOMERSET | SOMERSET | 1 | 31
02738 | MARION | MARION | 4 | 34
02764 | NORTH DIGHTON | NORTH DIGHTON | 4 | 34
02766 | NORTON | NORTON | 4 | 34
02770 | ROCHESTER | ROCHESTER | 4 | 34
02780 | TAUNTON FINANCE | TAUNTON | 1 | 31
RHODE ISLAND
02835 | JAMESTOWN | JAMESTOWN | 3 | 33
02840 | BROADWAY | NEWPORT | 2 | 32
02840 | NEWPORT | NEWPORT | 2 | 32
02842 | MIDDLETOWN | MIDDLETOWN | 2 | 32
02857 | NORTH SCITUATE | NORTH SCITUATE | 6 | 36
02879 | WAKEFIELD | WAKEFIELD | 3 | 33
NEW HAMPSHIRE
03031 | AMHERST | AMHERST | 4 | 34
03045 | GOFFSTOWN | GOFFSTOWN | 1 | 31
03054 | MERRIMACK | MERRIMACK | 4 | 34
03055 | MILFORD | MILFORD | 1 | 31
03087 | WINDHAM | WINDHAM | 4 | 34
03217 | ASHLAND | ASHLAND | 5 | 35
03221 | BRADFORD | BRADFORD | 5 | 35
03222 | BRISTOL | BRISTOL | 3 | 33
03223 | CAMPTON | CAMPTON | 5 | 35
03245 | HOLDERNESS | HOLDERNESS | 5 | 35
03255 | NEWBURY | NEWBURY | 5 | 35
03257 | NEW LONDON | NEW LONDON | 5 | 35
03266 | RUMNEY | RUMNEY | 5 | 35
03272 | NEWBURY | NEWBURY | 5 | 35
03446 | SWANZEY | SWANZEY | 5 | 35
03603 | CHARLESTOWN | CHARLESTOWN | 5 | 35
03766 | LEBANON | LEBANON | 2 | 32
03773 | NEWPORT | NEWPORT | 3 | 33
03782 | SUNAPEE | SUNAPEE | 5 | 35
03813 | CENTER CONWAY | CENTER CONWAY | 5 | 35
03818 | CONWAY | CONWAY | 5 | 35
03821 | DOVER | DOVER | 1 | 31
03825 | BARRINGTON | BARRINGTON | 4 | 34
03833 | EXETER | EXETER | 1 | 31
03838 | GLEN | GLEN | 5 | 35
03845 | INTERVALE | INTERVALE | 5 | 35
03847 | INTERVALE | INTERVALE | 5 | 35
03856 | NEWFIELDS | NEWFIELDS | 4 | 34
03866 | ROCHESTER | ROCHESTER | 1 | 31
03878 | SOMERSWORTH | SOMERSWORTH | 1 | 31
MAINE
03901 | BERWICK | BERWICK | 4 | 34
04027 | LEBANON | LEBANON | 4 | 34
04032 | FREEPORT | FREEPORT | 2 | 32
04064 | OLD ORCHARD BEACH | OLD ORCHARD BEACH | 2 | 32
04071 | RAYMOND | RAYMOND | 4 | 34
04079 | HARPSWELL | HARPSWELL | 4 | 34
04211 | AUBURN | AUBURN | 2 | 32
04212 | GREAT FALLS | AUBURN | 2 | 32
04241 | SOUTH LEWISTON | LEWISTON | 2 | 32
04243 | LEWISTON | LEWISTON | 2 | 32
04268 | NORWAY | NORWAY | 2 | 32
04281 | SOUTH PARIS | SOUTH PARIS | 2 | 32
04345 | GARDINER | GARDINER | 2 | 32
04609 | BAR HARBOR | BAR HARBOR | 2 | 32
04668 | PRINCETON | PRINCETON | 4 | 34
04730 | HOULTON | HOULTON | 2 | 32
04761 | HOULTON | HOULTON | 2 | 32
04769 | PRESQUE ISLE | PRESQUE ISLE | 2 | 32
04849 | LINCOLNVILLE | LINCOLNVILLE | 4 | 34
04915 | BELFAST | BELFAST | 1 | 31
04974 | SEARSPORT | SEARSPORT | 4 | 34
VERMONT
05001 | WHITE RIVER JUNCTION | WHITE RIVER JUNCTION | 3 | 33
05088 | WILDER | WILDER | 4 | 34
05089 | WINDSOR | WINDSOR | 1 | 31
05156 | SPRINGFIELD | SPRINGFIELD | 1 | 31
05601 | MONTPELIER | MONTPELIER | 3 | 33
05641 | BARRE | BARRE | 3 | 33
05702 | RUTLAND MAIN OFFICE | RUTLAND | 3 | 33
CONNECTICUT
06057 | NEW HARTFORD | NEW HARTFORD | 4 | 34
06098 | WINSTED | WINSTED | 1 | 31
06237 | COLUMBIA | COLUMBIA | 5 | 35
06250 | MANSFIELD CENTER | MANSFIELD CENTER | 5 | 35
06260 | PUTNAM | PUTNAM | 4 | 34
06281 | WOODSTOCK | WOODSTOCK | 5 | 35
06330 | BALTIC | BALTIC | 4 | 34
06333 | EAST LYME | EAST LYME | 5 | 35
06339 | LEDYARD | LEDYARD | 5 | 35
06351 | JEWETT CITY | JEWETT CITY | 2 | 32
06357 | NIANTIC | NIANTIC | 2 | 32
06360 | NORWICH | NORWICH | 3 | 33
06371 | OLD LYME | OLD LYME | 5 | 35
06382 | UNCASVILLE | UNCASVILLE | 3 | 33
06405 | BRANFORD | BRANFORD | 2 | 32
06412 | CHESTER | CHESTER | 4 | 34
06415 | COLCHESTER | COLCHESTER | 3 | 33
06420 | COLCHESTER | COLCHESTER | 3 | 33
06423 | EAST HADDAM | EAST HADDAM | 5 | 35
06426 | ESSEX | ESSEX | 2 | 32
06450 | MERIDEN | MERIDEN | 3 | 33
06468 | MONROE | MONROE | 4 | 34
06470 | NEWTOWN | NEWTOWN | 1 | 31
06471 | NORTH BRANFORD | NORTH BRANFORD | 4 | 34
06475 | OLD SAYBROOK | OLD SAYBROOK | 2 | 32
06482 | NEWTOWN | NEWTOWN | 1 | 31
06704 | PLAZA | WATERBURY | 2 | 32
06716 | WOLCOTT | WOLCOTT | 3 | 33
06720 | WATERBURY | WATERBURY | 4 | 34
06721 | WATERBURY | WATERBURY | 4 | 34
06722 | WATERBURY | WATERBURY | 4 | 34
06723 | WATERBURY | WATERBURY | 4 | 34
06724 | WATERBURY | WATERBURY | 4 | 34
06756 | GOSHEN | GOSHEN | 4 | 34
06759 | LITCHFIELD | LITCHFIELD | 4 | 34
06762 | MIDDLEBURY | MIDDLEBURY | 4 | 34
06784 | SHERMAN | SHERMAN | 4 | 34
06896 | WEST REDDING | REDDING | 4 | 34
NEW JERSEY
07101 | NEWARK | NEWARK | 6 | 36
07421 | HEWITT | HEWITT | 4 | 34
07728 | FREEHOLD | FREEHOLD | 4 | 34
07853 | LONG VALLEY | LONG VALLEY | 4 | 34
08004 | ATCO | ATCO | 3 | 33
08009 | BERLIN | BERLIN | 3 | 33
08016 | BURLINGTON | BURLINGTON | 3 | 33
08046 | WILLINGBORO | WILLINGBORO | 3 | 33
08085 | SWEDESBORO | SWEDESBORO | 3 | 33
08088 | VINCENTOWN | SOUTHAMPTON | 3 | 33
08094 | WILLIAMSTOWN | WILLIAMSTOWN | 2 | 32
08223 | MARMORA | MARMORA | 5 | 35
08226 | OCEAN CITY POST OFFICE | OCEAN CITY | 3 | 33
08230 | OCEAN VIEW | OCEAN VIEW | 5 | 35
08270 | WOODBINE | WOODBINE | 5 | 35
08302 | BRIDGETON | BRIDGETON | 3 | 33
08318 | ELMER | ELMER | 6 | 36
08332 | MILLVILLE | MILLVILLE | 3 | 33
08344 | NEWFIELD | NEWFIELD | 5 | 35
08758 | WARETOWN | WARETOWN | 5 | 35
08831 | MONROE TOWNSHIP | MONROE TOWNSHIP | 2 | 32
NEW YORK
10451 | BRONX | BRONX | 3 | 33
10504 | ARMONK | ARMONK | 1 | 31
10506 | BEDFORD | BEDFORD | 4 | 34
10516 | COLD SPRING | COLD SPRING | 1 | 31
10576 | POUND RIDGE | POUND RIDGE | 4 | 34
10912 | GREENWOOD LAKE | GREENWOOD LAKE | 4 | 34
10919 | CIRCLEVILLE | CIRCLEVILLE | 5 | 35
10921 | FLORIDA | FLORIDA | 3 | 33
10924 | GOSHEN | GOSHEN | 3 | 33
10925 | GREENWOOD LAKE | GREENWOOD LAKE | 4 | 34
10930 | HIGHLAND MILLS | HIGHLAND MILLS | 5 | 35
10973 | SLATE HILL | SLATE HILL | 5 | 35
10987 | TUXEDO PARK | TUXEDO PARK | 5 | 35
10990 | WARWICK | WARWICK | 3 | 33
10992 | WASHINGTONVILLE | WASHINGTONVILLE | 3 | 33
11004 | GLEN OAKS | GLEN OAKS | 1 | 31
11205 | PRATT | BROOKLYN | 1 | 31
11209 | FORT HAMILTON | BROOKLYN | 2 | 32
11218 | KENSINGTON | BROOKLYN | 1 | 31
11229 | KINGSWAY STATION | BROOKLYN | 1 | 31
11576 | ROSLYN | ROSLYN | 1 | 31
11690 | FAR ROCKAWAY | FAR ROCKAWAY | 3 | 33
11692 | ARVERNE | ARVERNE | 2 | 32
11694 | ROCKAWAY PARK | ROCKAWAY PARK | 1 | 31
11695 | ROCKAWAY PARK | ROCKAWAY PARK | 1 | 31
11901 | RIVERHEAD | RIVERHEAD | 3 | 33
11931 | AQUEBOGUE | AQUEBOGUE | 4 | 34
11932 | BRIDGEHAMPTON | BRIDGEHAMPTON | 4 | 34
11933 | CALVERTON | CALVERTON | 4 | 34
11963 | SAG HARBOR | SAG HARBOR | 4 | 34
11978 | WESTHAMPTON BEACH | WESTHAMPTON BEACH | 3 | 33
12054 | DELMAR | DELMAR | 3 | 33
12078 | GLOVERSVILLE MAIN OFFICE | GLOVERSVILLE | 3 | 33
12095 | JOHNSTOWN MAIN OFFICE | JOHNSTOWN | 3 | 33
12186 | VOORHEESVILLE | VOORHEESVILLE | 4 | 34
12449 | LAKE KATRINE | LAKE KATRINE | 5 | 35
12472 | ROSENDALE | ROSENDALE | 5 | 35
12515 | CLINTONDALE | CLINTONDALE | 5 | 35
12525 | GARDINER | GARDINER | 5 | 35
12529 | HILLSDALE | HILLSDALE | 5 | 35
12540 | LAGRANGEVILLE | LAGRANGEVILLE | 5 | 35
12542 | MARLBORO | MARLBORO | 5 | 35
12545 | MILLBROOK | MILLBROOK | 5 | 35
12547 | MILTON | MILTON | 5 | 35
12548 | MODENA | MODENA | 5 | 35
12561 | NEW PALTZ | NEW PALTZ | 3 | 33
12569 | PLEASANT VALLEY | PLEASANT VALLEY | 5 | 35
12801 | GLENS FALLS | GLENS FALLS | 3 | 33
12803 | GLENS FALLS | GLENS FALLS | 3 | 33
12804 | QUEENSBURY | QUEENSBURY | 3 | 33
13166 | WEEDSPORT | WEEDSPORT | 5 | 35
13612 | BLACK RIVER | BLACK RIVER | 5 | 35
13745 | CHENANGO BRIDGE | CHENANGO BRIDGE | 4 | 34
13820 | ONEONTA MAIN OFFICE | ONEONTA | 4 | 34
13833 | PORT CRANE | PORT CRANE | 5 | 35
13902 | BINGHAMTON | BINGHAMTON | 4 | 34
13904 | BINGHAMTON | BINGHAMTON | 4 | 34
13905 | BINGHAMTON | BINGHAMTON | 4 | 34
14021 | BATAVIA MAIN OFFICE | BATAVIA | 3 | 33
14048 | DUNKIRK | DUNKIRK | 3 | 33
14063 | FREDONIA | FREDONIA | 3 | 33
14072 | GRAND ISLAND | GRAND ISLAND | 4 | 34
14132 | SANBORN | SANBORN | 4 | 34
14166 | DUNKIRK | DUNKIRK | 3 | 33
14231 | WILLIAMSVILLE | BUFFALO | 2 | 32
14468 | HILTON MAIN OFFICE | HILTON | 3 | 33
14478 | KEUKA PARK | KEUKA PARK | 5 | 35
14502 | MACEDON | MACEDON | 5 | 35
14514 | NORTH CHILI MAIN OFFICE | NORTH CHILI | 3 | 33
14519 | ONTARIO | ONTARIO | 5 | 35
14527 | PENN YAN | PENN YAN | 4 | 34
14559 | SPENCERPORT MAIN OFFICE | SPENCERPORT | 3 | 33
14718 | CASSADAGA | CASSADAGA | 5 | 35
14902 | DOWNTOWN STA ELMIRA | ELMIRA | 2 | 32
14905 | DOWNTOWN STA ELMIRA | ELMIRA | 2 | 32
PENNSYLVANIA
15116 | GLENSHAW MAIN OFFICE | GLENSHAW | 2 | 32
15301 | WASHINGTON | WASHINGTON | 3 | 33
15401 | UNIONTOWN MAIN OFFICE | UNIONTOWN | 3 | 33
15522 | BEDFORD | BEDFORD | 4 | 34
16146 | SHARON | SHARON | 4 | 34
16148 | HERMITAGE | HERMITAGE | 4 | 34
16441 | WATERFORD | WATERFORD | 4 | 34
16603 | ALTOONA | ALTOONA | 5 | 35
16635 | DUNCANSVILLE | DUNCANSVILLE | 5 | 35
16648 | HOLLIDAYSBURG | HOLLIDAYSBURG | 4 | 34
16823 | BELLEFONTE | BELLEFONTE | 4 | 34
17016 | CORNWALL | CORNWALL | 5 | 35
17042 | LEBANON | LEBANON | 3 | 33
17815 | BLOOMSBURG | BLOOMSBURG | 4 | 34
17839 | BLOOMSBURG | BLOOMSBURG | 4 | 34
18017 | BUTZTOWN | BETHLEHEM | 4 | 34
18051 | FOGELSVILLE | FOGELSVILLE | 5 | 35
18064 | NAZARETH | NAZARETH | 4 | 34
18326 | CRESCO | CRESCO | 4 | 34
18327 | DELAWARE WATER GAP | DELAWARE WATER GAP | 5 | 35
18360 | STROUDSBURG | STROUDSBURG | 3 | 33
44036 | TREXLERTOWN | TREXLERTOWN | 5 | 35
18640 | PITTSTON | PITTSTON | 4 | 34
18642 | PITTSTON | PITTSTON | 4 | 34
18643 | PITTSTON | PITTSTON | 4 | 34
18644 | PITTSTON | PITTSTON | 4 | 34
18840 | SAYRE MAIN OFFICE | SAYRE | 4 | 34
18914 | CHALFONT | CHALFONT | 3 | 33
18933 | POINT PLEASANT | POINT PLEASANT | 4 | 34
18947 | PIPERSVILLE | PIPERSVILLE | 4 | 34
18950 | POINT PLEASANT | POINT PLEASANT | 4 | 34
19007 | BRISTOL | BRISTOL | 3 | 33
19016 | CHESTER | CHESTER | 3 | 33
19061 | BOOTHWYN | UPPER CHICHESTER | 3 | 33
19078 | RIDLEY PARK | RIDLEY PARK | 3 | 33
19122 | SPRING GARDEN | PHILADELPHIA | 4 | 34
19128 | ROXBOROUGH | PHILADELPHIA | 3 | 33
19135 | TACONY | PHILADELPHIA | 3 | 33
19148 | SNYDER PLAZA | PHILADELPHIA | 3 | 33
19320 | COATESVILLE | COATESVILLE | 3 | 33
19520 | ELVERSON | ELVERSON | 5 | 35
19533 | LEESPORT | LEESPORT | 5 | 35
19606 | READING STATION | READING | 3 | 33
DELAWARE
19939 | DAGSBORO | DAGSBORO | 4 | 34
19943 | FELTON | FELTON | 5 | 35
19947 | GEORGETOWN | GEORGETOWN | 3 | 33
19963 | MILFORD | MILFORD | 3 | 33
19966 | MILLSBORO | MILLSBORO | 5 | 35
19968 | MILTON | MILTON | 2 | 32
19973 | SEAFORD | SEAFORD | 3 | 33
MARYLAND
20639 | HUNTINGTOWN | HUNTINGTOWN | 5 | 35
20678 | PRINCE FREDERICK | PRINCE FREDERICK | 4 | 34
20689 | HUNTINGTOWN | HUNTINGTOWN | 5 | 35
20753 | DISTRICT HEIGHTS | DISTRICT HEIGHTS | 1 | 31
20773 | UPPER MARLBORO | UPPER MARLBORO | 1 | 31
20775 | KETTERING | UPPER MARLBORO | 1 | 31
20777 | HIGHLAND | HIGHLAND | 5 | 35
20791 | HAMPTON PARK | CAPITOL HEIGHTS | 2 | 32
20792 | LARGO | UPPER MARLBORO | 1 | 31
20812 | GLEN ECHO | GLEN ECHO | 4 | 34
20837 | POOLESVILLE | POOLESVILLE | 4 | 34
20839 | POOLESVILLE | POOLESVILLE | 4 | 34
21001 | ABERDEEN | ABERDEEN | 3 | 33
21005 | ABERDEEN PROVING GROUND | ABERDEEN PROVING GROUND | 3 | 33
21009 | ABINGDON | ABINGDON | 5 | 35
21028 | CHURCHVILLE | CHURCHVILLE | 5 | 35
21040 | EDGEWOOD | EDGEWOOD | 3 | 33
21042 | ENCHANTED FOREST | ELLICOTT CITY | 3 | 33
21048 | FINKSBURG | FINKSBURG | 5 | 35
21071 | GLYNDON | GLYNDON | 5 | 35
21074 | HAMPSTEAD | HAMPSTEAD | 5 | 35
21078 | HAVRE DE GRACE | HAVRE DE GRACE | 3 | 33
21085 | JOPPA | JOPPA | 3 | 33
21102 | MANCHESTER | MANCHESTER | 5 | 35
21111 | MONKTON | MONKTON | 4 | 34
21131 | PHOENIX | PHOENIX | 5 | 35
21136 | REISTERSTOWN | REISTERSTOWN | 3 | 33
21152 | SPARKS GLENCOE | SPARKS GLENCOE | 5 | 35
21220 | MIDDLE RIVER | MIDDLE RIVER | 3 | 33
21221 | ESSEX | ESSEX | 3 | 33
21222 | DUNDALK SPARROWS POINT | DUNDALK | 3 | 33
21401 | LEGION AVENUE | ANNAPOLIS | 3 | 33
21619 | CHESTER | CHESTER | 4 | 34
21638 | GRASONVILLE | GRASONVILLE | 5 | 35
21662 | ROYAL OAK | ROYAL OAK | 5 | 35
21663 | SAINT MICHAELS | SAINT MICHAELS | 4 | 34
21666 | STEVENSVILLE | STEVENSVILLE | 5 | 35
21717 | BUCKEYSTOWN | BUCKEYSTOWN | 5 | 35
21734 | FUNKSTOWN | FUNKSTOWN | 5 | 35
21740 | HAGERSTOWN | HAGERSTOWN | 3 | 33
21742 | NORTHERN | HAGERSTOWN | 3 | 33
21767 | MAUGANSVILLE | MAUGANSVILLE | 5 | 35
21774 | NEW MARKET | NEW MARKET | 5 | 35
21793 | WALKERSVILLE | WALKERSVILLE | 5 | 35
21795 | WILLIAMSPORT | WILLIAMSPORT | 3 | 33
21811 | OCEAN PINES | BERLIN | 3 | 33
21862 | OCEAN PINES | BERLIN | 3 | 33
21903 | PERRYVILLE | PERRYVILLE | 4 | 34
VIRGINIA
20159 | HAMILTON | HAMILTON | 5 | 35
20182 | NOKESVILLE | NOKESVILLE | 5 | 35
22060 | NORTH POST | FORT BELVOIR | 2 | 32
22134 | QUANTICO | QUANTICO | 2 | 32
22202 | EADS FINANCE | ARLINGTON | 1 | 31
22727 | MADISON | MADISON | 5 | 35
22952 | LYNDHURST | LYNDHURST | 5 | 35
22968 | RUCKERSVILLE | RUCKERSVILLE | 5 | 35
22973 | STANARDSVILLE | STANARDSVILLE | 5 | 35
23069 | HANOVER | HANOVER | 5 | 35
23093 | LOUISA | LOUISA | 5 | 35
23116 | ATLEE | MECHANICSVILLE | 4 | 34
23117 | MINERAL | MINERAL | 5 | 35
23150 | SANDSTON | SANDSTON | 5 | 35
23168 | TOANO | TOANO | 4 | 34
23170 | LOUISA | LOUISA | 5 | 35
23511 | NAVAL BASE | NORFOLK | 4 | 34
23604 | FORT EUSTIS | FORT EUSTIS | 3 | 33
23607 | NEWPORT NEWS | NEWPORT NEWS | 6 | 36
23665 | LANGLEY AFB | HAMPTON | 3 | 33
23883 | SURRY | SURRY | 5 | 35
24151 | ROCKY MOUNT | ROCKY MOUNT | 4 | 34
24184 | WIRTZ | WIRTZ | 5 | 35
24236 | DAMASCUS | DAMASCUS | 5 | 35
24250 | GATE CITY | GATE CITY | 5 | 35
24251 | GATE CITY | GATE CITY | 5 | 35
24319 | CHILHOWIE | CHILHOWIE | 5 | 35
24340 | GLADE SPRING | GLADE SPRING | 5 | 35
24354 | MARION | MARION | 4 | 34
24361 | MEADOWVIEW | MEADOWVIEW | 5 | 35
24370 | SALTVILLE | SALTVILLE | 5 | 35
24416 | BUENA VISTA | BUENA VISTA | 4 | 34
24450 | LEXINGTON | LEXINGTON | 4 | 34
24477 | STUARTS DRAFT | STUARTS DRAFT | 5 | 35
24555 | GLASGOW | GLASGOW | 5 | 35
WEST VIRGINIA
25271 | RIPLEY | RIPLEY | 4 | 34
25302 | STONEWALL | CHARLESTON | 4 | 34
25362 | STONEWALL | CHARLESTON | 4 | 34
25402 | MARTINSBURG | MARTINSBURG | 4 | 34
25825 | COOL RIDGE | COOL RIDGE | 5 | 35
25827 | CRAB ORCHARD | CRAB ORCHARD | 5 | 35
25832 | DANIELS | DANIELS | 5 | 35
25918 | SHADY SPRING | SHADY SPRING | 5 | 35
26164 | RAVENSWOOD | RAVENSWOOD | 4 | 34
26507 | DOWNTOWN MORGANTOWN | MORGANTOWN | 4 | 34
26531 | DELLSLOW | DELLSLOW | 5 | 35
26588 | RIVESVILLE | RIVESVILLE | 5 | 35
26726 | KEYSER | KEYSER | 4 | 34
NORTH CAROLINA
27214 | BROWNS SUMMIT | BROWNS SUMMIT | 5 | 35
27235 | COLFAX | COLFAX | 5 | 35
27253 | GRAHAM | GRAHAM | 3 | 33
27258 | HAW RIVER | HAW RIVER | 5 | 35
27278 | HILLSBOROUGH | HILLSBOROUGH | 4 | 34
27301 | MC LEANSVILLE | MC LEANSVILLE | 5 | 35
27302 | MEBANE | MEBANE | 4 | 34
27310 | OAK RIDGE | OAK RIDGE | 5 | 35
27312 | PITTSBORO | PITTSBORO | 5 | 35
27357 | STOKESDALE | STOKESDALE | 5 | 35
27359 | GRAHAM | GRAHAM | 3 | 33
27377 | WHITSETT | WHITSETT | 6 | 36
27416 | SPRING VALLEY | GREENSBORO | 3 | 33
27501 | ANGIER MAIN OFFICE | ANGIER | 4 | 34
27504 | BENSON | BENSON | 4 | 34
27536 | HENDERSON | HENDERSON | 3 | 33
27544 | KITTRELL | KITTRELL | 5 | 35
27576 | SELMA | SELMA | 4 | 34
27577 | SMITHFIELD | SMITHFIELD | 4 | 34
27592 | WILLOW SPRING | WILLOW SPRING | 5 | 35
27623 | WESTGATE | RALEIGH | 4 | 34
27675 | WESTGATE | RALEIGH | 4 | 34
27703 | EAST DURHAM | DURHAM | 4 | 34
27822 | ELM CITY | ELM CITY | 5 | 35
27851 | LUCAMA | LUCAMA | 5 | 35
27856 | NASHVILLE | NASHVILLE | 3 | 33
27858 | CPU SOUTH PARK | GREENVILLE | 4 | 41
28001 | ALBEMARLE MAIN OFFICE | ALBEMARLE | 3 | 33
28002 | ALBEMARLE MAIN OFFICE | ALBEMARLE | 3 | 33
28016 | BESSEMER CITY | BESSEMER CITY | 4 | 34
28034 | DALLAS | DALLAS | 4 | 34
28039 | EAST SPENCER | EAST SPENCER | 5 | 35
28072 | GRANITE QUARRY | GRANITE QUARRY | 5 | 35
28081 | KANNAPOLIS | KANNAPOLIS | 4 | 34
28082 | KANNAPOLIS | KANNAPOLIS | 4 | 34
28111 | MONROE | MONROE | 4 | 34
28159 | SPENCER | SPENCER | 4 | 34
28164 | STANLEY | STANLEY | 4 | 34
28173 | WAXHAW | WAXHAW | 5 | 35
28302 | FAYETTEVILLE | FAYETTEVILLE | 3 | 33
28311 | TOKAY ANNEX | FAYETTEVILLE | 3 | 33
28326 | CAMERON | CAMERON | 5 | 35
28329 | CLINTON | CLINTON | 3 | 33
28337 | ELIZABETHTOWN | ELIZABETHTOWN | 5 | 35
28351 | LAUREL HILL | LAUREL HILL | 5 | 35
28364 | MAXTON | MAXTON | 3 | 33
28379 | ROCKINGHAM MAIN OFFICE | ROCKINGHAM | 3 | 33
28380 | ROCKINGHAM MAIN OFFICE | ROCKINGHAM | 3 | 33
28398 | WARSAW | WARSAW | 4 | 34
28402 | WILMINGTON MAIN | WILMINGTON | 4 | 34
28429 | CASTLE HAYNE | CASTLE HAYNE | 5 | 35
28433 | CLARKTON | CLARKTON | 5 | 35
28441 | GARLAND | GARLAND | 5 | 35
28451 | LELAND | LELAND | 5 | 35
28453 | MAGNOLIA | MAGNOLIA | 5 | 35
28458 | ROSE HILL | ROSE HILL | 5 | 35
28465 | OAK ISLAND | OAK ISLAND | 3 | 40
28466 | WALLACE | WALLACE | 3 | 33
28531 | HARKERS ISLAND | HARKERS ISLAND | 4 | 34
28532 | CHERRY POINT | HAVELOCK | 3 | 33
28532 | HAVELOCK | HAVELOCK | 3 | 33
28539 | HUBERT | HUBERT | 5 | 35
28540 | JACKSONVILLE | JACKSONVILLE | 3 | 33
28540 | NORTHWOODS | JACKSONVILLE | 3 | 33
28541 | JACKSONVILLE | JACKSONVILLE | 3 | 33
28570 | NEWPORT | NEWPORT | 5 | 35
28651 | MILLERS CREEK | MILLERS CREEK | 4 | 34
28654 | MORAVIAN FALLS | MORAVIAN FALLS | 5 | 35
28655 | MORGANTON MAIN OFFICE | MORGANTON | 3 | 33
28659 | NORTH WILKESBORO | NORTH WILKESBORO | 3 | 33
28697 | WILKESBORO | WILKESBORO | 3 | 33
28728 | ENKA | ENKA | 5 | 35
28731 | FLAT ROCK | FLAT ROCK | 5 | 35
28738 | HAZELWOOD | WAYNESVILLE | 4 | 34
28742 | HORSE SHOE | HORSE SHOE | 5 | 35
28745 | LAKE JUNALUSKA | LAKE JUNALUSKA | 5 | 35
28768 | PISGAH FOREST | PISGAH FOREST | 5 | 35
28777 | SPRUCE PINE | SPRUCE PINE | 3 | 33
28784 | ZIRCONIA | ZIRCONIA | 4 | 34
28786 | HAZELWOOD | WAYNESVILLE | 4 | 34
28786 | WAYNESVILLE | WAYNESVILLE | 4 | 34
28790 | ZIRCONIA | ZIRCONIA | 4 | 34
28793 | HENDERSONVILLE | HENDERSONVILLE | 3 | 33
28904 | HAYESVILLE | HAYESVILLE | 5 | 35
SOUTH CAROLINA
29078 | LUGOFF | LUGOFF | 5 | 35
29161 | TIMMONSVILLE | TIMMONSVILLE | 4 | 34
29376 | ROEBUCK | ROEBUCK | 5 | 35
29388 | WOODRUFF | WOODRUFF | 4 | 34
29438 | EDISTO ISLAND | EDISTO ISLAND | 5 | 35
29451 | ISLE OF PALMS | ISLE OF PALMS | 4 | 34
29461 | MONCKS CORNER | MONCKS CORNER | 4 | 34
29503 | FEDERAL FLORENCE | FLORENCE | 4 | 34
29540 | DARLINGTON | DARLINGTON | 4 | 34
29568 | LONGS | LONGS | 5 | 35
29578 | MYRTLE BEACH | MYRTLE BEACH | 4 | 34
29587 | SURFSIDE BEACH | SURFSIDE BEACH | 4 | 34
29588 | SOCASTEE | MYRTLE BEACH | 3 | 33
29644 | FOUNTAIN INN | FOUNTAIN INN | 4 | 34
29657 | LIBERTY | LIBERTY | 4 | 34
29690 | TRAVELERS REST | TRAVELERS REST | 4 | 34
29691 | WALHALLA | WALHALLA | 4 | 34
29693 | WESTMINSTER | WESTMINSTER | 4 | 34
29696 | WEST UNION | WEST UNION | 5 | 35
29708 | TEGA CAY CONTRACT | FORT MILL | 4 | 41
29710 | LAKE WYLIE | CLOVER | 4 | 41
29745 | YORK | YORK | 4 | 34
29861 | NORTH AUGUSTA | NORTH AUGUSTA | 4 | 34
29920 | SAINT HELENA ISLAND | SAINT HELENA ISLAND | 5 | 35
GEORGIA
30012 | OLDE TOWN | CONYERS | 4 | 34
30054 | OXFORD | OXFORD | 6 | 36
30066 | MARKET SQUARE | MARIETTA | 5 | 35
30070 | PORTERDALE | PORTERDALE | 6 | 36
30120 | NORTH CORNERS | CARTERSVILLE | 5 | 35
30137 | EMERSON | EMERSON | 6 | 36
30162 | ROME | ROME | 4 | 34
30164 | WEST ROME | ROME | 4 | 34
30175 | TALKING ROCK | TALKING ROCK | 6 | 36
30180 | VILLA RICA | VILLA RICA | 4 | 34
30184 | WHITE | WHITE | 6 | 36
30187 | WINSTON | WINSTON | 6 | 36
30228 | HAMPTON | HAMPTON | 6 | 36
30228 | LOVEJOY | HAMPTON | 5 | 35
30250 | LOVEJOY | HAMPTON | 5 | 35
30257 | MILNER | MILNER | 5 | 35
30268 | PALMETTO | PALMETTO | 6 | 36
30272 | RED OAK | RED OAK | 5 | 35
30276 | SENOIA | SENOIA | 6 | 36
30284 | SUNNY SIDE | SUNNY SIDE | 6 | 36
30286 | THOMASTON | THOMASTON | 4 | 34
30290 | TYRONE | TYRONE | 6 | 36
30292 | WILLIAMSON | WILLIAMSON | 5 | 35
30294 | ELLENWOOD | ELLENWOOD | 6 | 36
30302 | CENTRAL CITY | ATLANTA | 4 | 34
30312 | CENTRAL CITY | ATLANTA | 4 | 34
30317 | EASTWOOD | ATLANTA | 5 | 35
30319 | NORTH ATLANTA | ATLANTA | 4 | 34
30320 | L&DC | ATLANTA | 2 | 32
30321 | ATLANTA | ATLANTA | 4 | 34
30337 | COLLEGE PARK | ATLANTA | 4 | 34
30349 | OLD NATIONAL | ATLANTA | 4 | 34
30354 | HAPEVILLE | ATLANTA | 5 | 35
30513 | BLUE RIDGE | BLUE RIDGE | 6 | 36
30514 | BLAIRSVILLE | BLAIRSVILLE | 6 | 36
30525 | CLAYTON | CLAYTON | 5 | 35
30527 | CLERMONT | CLERMONT | 5 | 35
30528 | CLEVELAND | CLEVELAND | 6 | 36
30546 | HIAWASSEE | HIAWASSEE | 6 | 36
30552 | LAKEMONT | LAKEMONT | 5 | 35
30559 | MINERAL BLUFF | MINERAL BLUFF | 6 | 36
30560 | MORGANTON | MORGANTON | 5 | 35
30562 | MOUNTAIN CITY | MOUNTAIN CITY | 5 | 35
30564 | MURRAYVILLE | MURRAYVILLE | 5 | 35
30568 | RABUN GAP | RABUN GAP | 5 | 35
30576 | TIGER | TIGER | 6 | 36
30582 | YOUNG HARRIS | YOUNG HARRIS | 5 | 35
30677 | WATKINSVILLE | WATKINSVILLE | 5 | 35
30703 | CALHOUN | CALHOUN | 4 | 34
30722 | DALTON | DALTON | 4 | 34
30725 | FLINTSTONE | FLINTSTONE | 5 | 35
30736 | RINGGOLD | RINGGOLD | 4 | 34
30740 | ROCKY FACE | ROCKY FACE | 5 | 35
30752 | TRENTON | TRENTON | 6 | 36
30755 | TUNNEL HILL | TUNNEL HILL | 5 | 35
30815 | HEPHZIBAH | HEPHZIBAH | 5 | 35
30903 | AUGUSTA | AUGUSTA | 4 | 34
30905 | FORT GORDON | FORT GORDON | 3 | 33
30916 | PEACH ORCHARD | AUGUSTA | 4 | 34
31010 | CORDELE | CORDELE | 4 | 34
31069 | PERRY GA | PERRY | 4 | 34
31092 | VIENNA | VIENNA | 4 | 34
31301 | ALLENHURST | ALLENHURST | 5 | 35
31315 | FORT STEWART | FORT STEWART | 3 | 33
31320 | MIDWAY | MIDWAY | 5 | 35
31501 | WAYCROSS MAIN POST OFFICE | WAYCROSS | 4 | 34
31502 | WAYCROSS MAIN POST OFFICE | WAYCROSS | 4 | 34
31547 | CPU KINGS BAY | KINGS BAY | 4 | 41
31569 | WOODBINE | WOODBINE | 5 | 35
31598 | JESUP | JESUP | 4 | 34
31626 | BOSTON | BOSTON | 6 | 36
31763 | LEESBURG | LEESBURG | 5 | 35
31793 | TIFTON | TIFTON | 4 | 34
31804 | CATAULA | CATAULA | 5 | 35
31808 | FORTSON | FORTSON | 5 | 35
31820 | MIDLAND | MIDLAND | 5 | 35
31995 | FORT BENNING | FORT BENNING | 4 | 34
39818 | BAINBRIDGE | BAINBRIDGE | 4 | 34
39851 | FORT GAINES | FORT GAINES | 6 | 36
39854 | GEORGETOWN | GEORGETOWN | 6 | 36
39897 | WHIGHAM | WHIGHAM | 5 | 35
FLORIDA
32043 | GREEN COVE SPRINGS | GREEN COVE SPRINGS | 3 | 33
32110 | BUNNELL | BUNNELL | 4 | 34
32136 | FLAGLER BEACH | FLAGLER BEACH | 5 | 35
32145 | HASTINGS | HASTINGS | 5 | 35
32195 | WEIRSDALE | WEIRSDALE | 4 | 34
32345 | MONTICELLO | MONTICELLO | 4 | 34
32358 | SOPCHOPPY | SOPCHOPPY | 4 | 34
32531 | BAKER | BAKER | 5 | 35
32533 | CANTONMENT | CANTONMENT | 3 | 33
32536 | CRESTVIEW | CRESTVIEW | 3 | 33
32569 | MARY ESTHER | MARY ESTHER | 3 | 33
32617 | ANTHONY | ANTHONY | 4 | 34
32644 | CHIEFLAND | CHIEFLAND | 5 | 35
32693 | TRENTON | TRENTON | 4 | 34
32721 | DELAND | DELAND | 3 | 33
32735 | GRAND ISLAND | GRAND ISLAND | 7 | 37
32744 | LAKE HELEN | LAKE HELEN | 3 | 33
32759 | OAK HILL | OAK HILL | 4 | 34
32776 | SORRENTO | SORRENTO | 7 | 37
32862 | ORLANDO MOWU | ORLANDO | 4 | 34
32948 | FELLSMERE | FELLSMERE | 4 | 34
32949 | GRANT | GRANT | 4 | 34
32954 | MERRITT ISLAND | MERRITT ISLAND | 4 | 34
33034 | FLORIDA CITY | HOMESTEAD | 4 | 34
33051 | KEY COLONY BEACH | KEY COLONY BEACH | 3 | 33
33149 | KEY BISCAYNE | KEY BISCAYNE | 1 | 31
33470 | LOXAHATCHEE | LOXAHATCHEE | 4 | 34
33524 | CRYSTAL SPRINGS | CRYSTAL SPRINGS | 5 | 35
33526 | DADE CITY | DADE CITY | 4 | 34
33539 | ZEPHYRHILLS | ZEPHYRHILLS | 4 | 34
33576 | SAN ANTONIO | SAN ANTONIO | 6 | 36
33839 | EAGLE LAKE | EAGLE LAKE | 5 | 35
33840 | EATON PARK | EATON PARK | 5 | 35
33845 | HAINES CITY | HAINES CITY | 3 | 33
33858 | LOUGHMAN | LOUGHMAN | 3 | 33
33862 | LAKE PLACID | LAKE PLACID | 5 | 35
33884 | FLORENCE VILLA | WINTER HAVEN | 4 | 34
33885 | FLORENCE VILLA | WINTER HAVEN | 4 | 34
33956 | SAINT JAMES CITY | SAINT JAMES CITY | 4 | 34
33970 | LEHIGH ACRES POST OFFICE | LEHIGH ACRES | 4 | 34
33994 | TICE | FORT MYERS | 4 | 34
34107 | COCO RIVER | NAPLES | 4 | 34
34108 | COCO RIVER | NAPLES | 4 | 34
34216 | ANNA MARIA | ANNA MARIA | 4 | 34
34229 | OSPREY | OSPREY | 5 | 35
34430 | DUNNELLON | DUNNELLON | 5 | 35
34436 | FLORAL CITY | FLORAL CITY | 5 | 35
34447 | HOMOSASSA SPRINGS | HOMOSASSA | 5 | 35
34451 | INVERNESS | INVERNESS | 4 | 34
34483 | MARICAMP | OCALA | 4 | 34
34484 | OXFORD | OXFORD | 5 | 35
34489 | SILVER SPRINGS | SILVER SPRINGS | 5 | 35
34610 | CPU SHADY HILLS | SPRING HILL | 4 | 41
34639 | LAND O LAKES | LAND O LAKES | 5 | 35
34740 | OAKLAND | OAKLAND | 7 | 37
34756 | MONTVERDE | MONTVERDE | 5 | 35
34758 | POINCIANA | KISSIMMEE | 6 | 36
34760 | OAKLAND | OAKLAND | 7 | 37
34785 | WILDWOOD | WILDWOOD | 4 | 34
34789 | HAINES CREEK | LEESBURG | 4 | 34
34948 | ORANGE AVENUE | FORT PIERCE | 4 | 34
34954 | ORANGE AVENUE | FORT PIERCE | 4 | 34
34979 | FORT PIERCE | FORT PIERCE | 4 | 34
ALABAMA
35007 | ALABASTER | ALABASTER | 5 | 35
35023 | HUEYTOWN | BESSEMER | 4 | 34
35080 | HELENA | HELENA | 5 | 35
35127 | PLEASANT GROVE | PLEASANT GROVE | 5 | 35
35210 | IRONDALE | IRONDALE | 4 | 34
35217 | TARRANT | BIRMINGHAM | 4 | 34
35220 | CENTER POINT | CENTER POINT | 4 | 34
35601 | CPU BELTLINE | DECATUR | 4 | 41
35602 | DECATUR | DECATUR | 4 | 34
35612 | ATHENS | ATHENS | 4 | 34
35640 | HARTSELLE | HARTSELLE | 4 | 34
35671 | TANNER | TANNER | 5 | 35
35742 | CAPSHAW | CAPSHAW | 5 | 35
35748 | GURLEY | GURLEY | 5 | 35
35749 | HARVEST | HARVEST | 5 | 35
35762 | NORMAL | NORMAL | 5 | 35
35808 | REDSTONE ARSENAL | HUNTSVILLE | 4 | 34
35812 | REDSTONE ARSENAL | HUNTSVILLE | 4 | 34
35902 | GADSDEN | GADSDEN | 4 | 34
35906 | GADSDEN | GADSDEN | 4 | 34
35968 | FORT PAYNE | FORT PAYNE | 4 | 34
35976 | GUNTERSVILLE | GUNTERSVILLE | 4 | 34
36072 | EUFAULA | EUFAULA | 4 | 34
36302 | DOTHAN POST OFFICE | DOTHAN | 4 | 34
36310 | ABBEVILLE | ABBEVILLE | 4 | 34
36317 | ABBEVILLE | ABBEVILLE | 4 | 34
36361 | OZARK | OZARK | 4 | 34
36420 | ANDALUSIA | ANDALUSIA | 4 | 34
36511 | BON SECOUR | BON SECOUR | 5 | 35
36530 | ELBERTA | ELBERTA | 5 | 35
36541 | GRAND BAY | GRAND BAY | 5 | 35
36544 | IRVINGTON | IRVINGTON | 5 | 35
36568 | SAINT ELMO | SAINT ELMO | 5 | 35
36575 | SEMMES | SEMMES | 5 | 35
36611 | CHICKASAW | MOBILE | 4 | 34
36803 | OPELIKA | OPELIKA | 4 | 34
36856 | FORT MITCHELL | FORT MITCHELL | 5 | 35
TENNESSEE
37042 | RINGGOLD MILL | CLARKSVILLE | 3 | 33
37074 | HARTSVILLE | HARTSVILLE | 3 | 33
37083 | LAFAYETTE | LAFAYETTE | 3 | 33
37086 | LA VERGNE | LA VERGNE | 5 | 35
37116 | MADISON | MADISON | 3 | 33
37135 | NOLENSVILLE | NOLENSVILLE | 5 | 35
37167 | SMYRNA | SMYRNA | 4 | 34
37186 | WESTMORELAND | WESTMORELAND | 5 | 35
37310 | CHARLESTON | CHARLESTON | 6 | 36
37320 | CLEVELAND | CLEVELAND | 3 | 33
37324 | DECHERD | DECHERD | 6 | 36
37364 | DOWNTOWN CLEVELAND | CLEVELAND | 3 | 33
37377 | SIGNAL MOUNTAIN | SIGNAL MOUNTAIN | 3 | 33
37398 | WINCHESTER | WINCHESTER | 3 | 33
37615 | GRAY | JOHNSON CITY | 3 | 33
37617 | BLOUNTVILLE | BLOUNTVILLE | 6 | 36
37717 | CLINTON | CLINTON | 4 | 34
37748 | HARRIMAN | HARRIMAN | 3 | 33
37763 | KINGSTON | KINGSTON | 3 | 33
37774 | LOUDON | LOUDON | 4 | 34
37777 | LOUISVILLE | LOUISVILLE | 5 | 35
37802 | MARYVILLE | MARYVILLE | 5 | 35
37840 | OLIVER SPRINGS | OLIVER SPRINGS | 6 | 36
37874 | SWEETWATER | SWEETWATER | 3 | 33
37885 | VONORE | VONORE | 6 | 36
37938 | HALLS STATION | KNOXVILLE | 5 | 35
38083 | MILLINGTON | MILLINGTON | 4 | 34
38167 | FRAYSER | MEMPHIS | 4 | 34
38186 | WHITEHAVEN | MEMPHIS | 4 | 34
38190 | MALLORY | MEMPHIS | 4 | 34
38281 | UNION CITY | UNION CITY | 3 | 33
38302 | JACKSON | JACKSON | 3 | 33
38303 | TOM MURRAY | JACKSON | 3 | 33
38343 | HUMBOLDT | HUMBOLDT | 4 | 34
38355 | MEDINA | MEDINA | 6 | 36
38358 | MILAN | MILAN | 5 | 35
38372 | SAVANNAH | SAVANNAH | 3 | 33
38402 | COLUMBIA | COLUMBIA | 3 | 33
38502 | COOKEVILLE | COOKEVILLE | 3 | 33
38503 | BROAD ST STA | COOKEVILLE | 3 | 33
38506 | ALGOOD | COOKEVILLE | 3 | 33
38557 | CROSSVILLE | CROSSVILLE | 3 | 33
MISSISSIPPI
38611 | BYHALIA | BYHALIA | 5 | 35
38834 | CORINTH | CORINTH | 4 | 34
38835 | CORINTH | CORINTH | 4 | 34
38863 | PONTOTOC | PONTOTOC | 4 | 34
39043 | BRANDON | BRANDON | 4 | 34
39046 | CANTON | CANTON | 4 | 34
39047 | RESERVOIR | BRANDON | 4 | 34
39073 | FLORENCE | FLORENCE | 6 | 36
39154 | RAYMOND | RAYMOND | 5 | 35
39283 | DELTA STATION | JACKSON | 4 | 34
39284 | SOUTHWEST | JACKSON | 4 | 34
39302 | MERIDIAN MAIN OFFICE | MERIDIAN | 4 | 34
39403 | DOWNTOWN HATTIESBURG | HATTIESBURG | 4 | 34
39465 | PETAL | PETAL | 4 | 34
39466 | PICAYUNE | PICAYUNE | 4 | 34
39475 | PURVIS | PURVIS | 6 | 36
39482 | SUMRALL | SUMRALL | 6 | 36
39483 | FOXWORTH | FOXWORTH | 6 | 36
39505 | GULFPORT | GULFPORT | 4 | 34
39574 | SAUCIER | SAUCIER | 6 | 36
KENTUCKY
40121 | FORT KNOX | FORT KNOX | 4 | 34
40159 | RADCLIFF | RADCLIFF | 3 | 33
40342 | LAWRENCEBURG | LAWRENCEBURG | 5 | 35
40383 | VERSAILLES | VERSAILLES | 5 | 35
40476 | TANNERSVILLE | TANNERSVILLE | 4 | 34
40476 | RICHMOND MAIN OFFICE | RICHMOND | 5 | 35
40512 | LEXINGTON | LEXINGTON | 5 | 35
40574 | LEXINGTON | LEXINGTON | 5 | 35
40575 | LEXINGTON | LEXINGTON | 5 | 35
40576 | LEXINGTON | LEXINGTON | 5 | 35
40577 | LEXINGTON | LEXINGTON | 5 | 35
40578 | LEXINGTON | LEXINGTON | 5 | 35
40579 | LEXINGTON | LEXINGTON | 5 | 35
40580 | LEXINGTON | LEXINGTON | 5 | 35
40581 | LEXINGTON | LEXINGTON | 5 | 35
40582 | LEXINGTON | LEXINGTON | 5 | 35
40583 | LEXINGTON | LEXINGTON | 5 | 35
41048 | HEBRON | HEBRON | 5 | 35
41051 | INDEPENDENCE | INDEPENDENCE | 5 | 35
41091 | UNION | UNION | 5 | 35
41183 | WORTHINGTON | WORTHINGTON | 6 | 36
42002 | AVONDALE | PADUCAH | 4 | 34
42025 | BENTON | BENTON | 5 | 35
42102 | BOWLING GREEN | BOWLING GREEN | 4 | 34
42223 | FORT CAMPBELL | FORT CAMPBELL | 4 | 34
42234 | GUTHRIE | GUTHRIE | 6 | 36
42241 | HOPKINSVILLE | HOPKINSVILLE | 4 | 34
42302 | POSTAL STORE | OWENSBORO | 4 | 34
42304 | OWENSBORO | OWENSBORO | 4 | 34
42502 | SOMERSET | SOMERSET | 4 | 34
42519 | BURNSIDE | BURNSIDE | 6 | 36
42558 | BURNSIDE | BURNSIDE | 6 | 36
42564 | WEST SOMERSET | SOMERSET | 3 | 33
OHIO
43022 | GAMBIER | GAMBIER | 6 | 36
43125 | GROVEPORT | GROVEPORT | 2 | 32
43512 | DEFIANCE | DEFIANCE | 4 | 34
43702 | ZANE STREET | ZANESVILLE | 4 | 34
44026 | CHESTERLAND | CHESTERLAND | 3 | 33
44036 | ELYRIA MAIN OFFICE | ELYRIA | 4 | 34
44123 | NOBLE | EUCLID | 4 | 34
44132 | NOBLE | EUCLID | 4 | 34
44137 | BEDFORD | BEDFORD | 4 | 34
44139 | SOLON | SOLON | 3 | 33
44140 | BAY VILLAGE | BAY VILLAGE | 3 | 33
44146 | BEDFORD | BEDFORD | 4 | 34
44302 | FIVE POINTS | AKRON | 3 | 33
44308 | AKRON | AKRON | 4 | 34
44309 | AKRON | AKRON | 4 | 34
44320 | FIVE POINTS | AKRON | 3 | 33
44408 | COLUMBIANA | COLUMBIANA | 4 | 34
44420 | GIRARD | GIRARD | 4 | 34
44452 | NORTH LIMA | NORTH LIMA | 5 | 35
44501 | YOUNGSTOWN | YOUNGSTOWN | 3 | 33
44506 | YOUNGSTOWN | YOUNGSTOWN | 3 | 33
44507 | YOUNGSTOWN | YOUNGSTOWN | 3 | 33
44622 | DOVER | DOVER | 5 | 35
45041 | MIAMITOWN | MIAMITOWN | 4 | 34
45224 | COLLEGE HL | CINCINNATI | 4 | 34
45344 | NEW CARLISLE | NEW CARLISLE | 4 | 34
45371 | TIPP CITY | TIPP CITY | 3 | 33
45669 | PROCTORVILLE | PROCTORVILLE | 5 | 35
45802 | LIMA | LIMA | 3 | 33
INDIANA
46018 | ANDERSON | ANDERSON | 4 | 34
46052 | LEBANON | LEBANON | 3 | 33
46122 | DANVILLE | DANVILLE | 3 | 33
46176 | SHELBYVILLE | SHELBYVILLE | 4 | 34
46303 | CEDAR LAKE | CEDAR LAKE | 7 | 37
46304 | CHESTERTON | CHESTERTON | 5 | 35
46342 | HOBART | HOBART | 3 | 33
46401 | GARY | GARY | 6 | 36
46402 | GARY | GARY | 6 | 36
46703 | ANGOLA | ANGOLA | 5 | 35
46706 | AUBURN | AUBURN | 5 | 35
46952 | MARION | MARION | 5 | 35
46953 | MARION | MARION | 5 | 35
46992 | WABASH | WABASH | 5 | 35
47542 | HUNTINGBURG | HUNTINGBURG | 5 | 35
47547 | JASPER | JASPER | 4 | 34
47610 | CHANDLER | CHANDLER | 7 | 37
47629 | NEWBURGH | NEWBURGH | 5 | 35
47708 | EVANSVILLE | EVANSVILLE | 4 | 34
MICHIGAN
48059 | BIRCHWOOD MALL | FORT GRATIOT | 5 | 35
48062 | RICHMOND | RICHMOND | 4 | 34
48127 | DEARBORN HEIGHTS | DEARBORN HEIGHTS | 4 | 34
48128 | DEARBORN HEIGHTS | DEARBORN HEIGHTS | 4 | 34
48180 | TAYLOR MAIN OFFICE | TAYLOR | 4 | 34
48189 | WHITMORE LAKE | WHITMORE LAKE | 7 | 37
48204 | NORTHWESTERN | DETROIT | 5 | 35
48212 | HAMTRAMCK | HAMTRAMCK | 4 | 34
48234 | MOUNT ELLIOTT | DETROIT | 4 | 34
48239 | REDFORD | REDFORD | 4 | 34
48240 | REDFORD | REDFORD | 4 | 34
48242 | TAYLOR MAIN OFFICE | TAYLOR | 4 | 34
48657 | SANFORD | SANFORD | 7 | 37
48707 | BAY CITY | BAY CITY | 4 | 34
48820 | DEWITT | DEWITT | 7 | 37
48854 | MASON | MASON | 4 | 34
49019 | WESTWOOD | KALAMAZOO | 3 | 33
49053 | GALESBURG | GALESBURG | 7 | 37
49065 | LAWTON | LAWTON | 7 | 37
49077 | OSHTEMO | KALAMAZOO | 7 | 37
49083 | RICHLAND | RICHLAND | 5 | 35
49087 | SCHOOLCRAFT | SCHOOLCRAFT | 7 | 37
49091 | STURGIS | STURGIS | 4 | 34
49103 | BERRIEN SPRINGS | BERRIEN SPRINGS | 5 | 35
49106 | BRIDGMAN | BRIDGMAN | 7 | 37
49112 | EDWARDSBURG | EDWARDSBURG | 7 | 37
49130 | EDWARDSBURG | EDWARDSBURG | 7 | 37
49283 | SPRING ARBOR | SPRING ARBOR | 7 | 37
49315 | BYRON CENTER | BYRON CENTER | 5 | 35
49316 | CALEDONIA | CALEDONIA | 5 | 35
49345 | SPARTA | SPARTA | 3 | 33
49415 | FRUITPORT | FRUITPORT | 7 | 37
49422 | HOLLAND | HOLLAND | 2 | 32
49734 | GAYLORD | GAYLORD | 5 | 35
49740 | HARBOR SPRINGS | HARBOR SPRINGS | 3 | 33
49770 | CPU BAY VIEW | PETOSKEY | 5 | 42
49849 | ISHPEMING | ISHPEMING | 4 | 34
49858 | MENOMINEE | MENOMINEE | 5 | 35
IOWA
50036 | BOONE MAIN OFFICE | BOONE | 5 | 35
50036 | BOONE MAIN OFFICE | BOONE | 5 | 35
50099 | BOONE MAIN OFFICE | BOONE | 5 | 35
50112 | GRINNELL | GRINNELL | 5 | 35
50226 | POLK CITY | POLK CITY | 7 | 37
50801 | CRESTON | CRESTON | 5 | 35
51301 | SPENCER | SPENCER | 6 | 36
52244 | IOWA CITY | IOWA CITY | 5 | 35
52601 | BURLINGTON | BURLINGTON | 5 | 35
52761 | MUSCATINE | MUSCATINE | 5 | 35
52778 | WILTON | WILTON | 6 | 36
WISCONSIN
53095 | WEST BEND | WEST BEND | 4 | 34
53147 | LAKE GENEVA | LAKE GENEVA | 3 | 33
53589 | STOUGHTON | STOUGHTON | 4 | 34
53593 | VERONA | VERONA | 3 | 33
53913 | BARABOO MAIN OFFICE | BARABOO | 3 | 33
54130 | KAUKAUNA | KAUKAUNA | 4 | 34
54143 | MARINETTE | MARINETTE | 4 | 34
54324 | HANSEN ROAD STATION | GREEN BAY | 4 | 34
54402 | WAUSAU MAIN OFFICE | WAUSAU | 3 | 33
54449 | MARSHFIELD | MARSHFIELD | 4 | 34
54538 | LAC DU FLAMBEAU | LAC DU FLAMBEAU | 5 | 35
54548 | MINOCQUA | MINOCQUA | 5 | 35
54568 | WOODRUFF | WOODRUFF | 5 | 35
MINNESOTA
55014 | CIRCLE PINES | CIRCLE PINES | 5 | 35
55042 | LAKE ELMO | LAKE ELMO | 6 | 36
55056 | NORTH BRANCH | NORTH BRANCH | 5 | 35
55082 | STILLWATER | STILLWATER | 4 | 34
55083 | STILLWATER | STILLWATER | 4 | 34
55303 | ANOKA | ANOKA | 4 | 34
55720 | CLOQUET | CLOQUET | 3 | 33
55803 | MOUNT ROYAL | DULUTH | 4 | 34
55987 | WINONA | WINONA | 4 | 34
55988 | WINONA | WINONA | 4 | 34
56007 | ALBERT LEA | ALBERT LEA | 4 | 34
56258 | MARSHALL | MARSHALL | 4 | 34
56377 | SARTELL | SARTELL | 5 | 35
56379 | SAUK RAPIDS | SAUK RAPIDS | 4 | 34
56401 | BRAINERD | BRAINERD | 4 | 34
56502 | DETROIT LAKES | DETROIT LAKES | 3 | 33
56649 | INTERNATIONAL FALLS | INTERNATIONAL FALLS | 4 | 34
SOUTH DAKOTA
57042 | MADISON | MADISON | 4 | 34
57325 | CHAMBERLAIN | CHAMBERLAIN | 4 | 34
57402 | ABERDEEN | ABERDEEN | 4 | 34
NORTH DAKOTA
58402 | JAMESTOWN | JAMESTOWN | 3 | 33
58502 | BISMARCK DOWNTOWN | BISMARCK | 3 | 33
58506 | BISMARCK DOWNTOWN | BISMARCK | 3 | 33
58507 | BISMARCK DOWNTOWN | BISMARCK | 3 | 33
58554 | MANDAN | MANDAN | 4 | 34
58680 | MORGANTON MAIN OFFICE | MORGANTON | 3 | 33
58763 | NEW TOWN | NEW TOWN | 5 | 35
58802 | WILLISTON | WILLISTON | 4 | 34
58803 | BADLANDS | WILLISTON | 5 | 34
58854 | WATFORD CITY | WATFORD CITY | 5 | 35
MONTANA
59635 | EAST HELENA | EAST HELENA | 5 | 35
59923 | LIBBY | LIBBY | 4 | 34
ILLINOIS
60041 | INGLESIDE | INGLESIDE | 5 | 35
60083 | WADSWORTH | WADSWORTH | 5 | 35
60099 | ZION | ZION | 4 | 34
60115 | DEKALB | DEKALB | 5 | 35
60410 | CHANNAHON | CHANNAHON | 6 | 36
60447 | MINOOKA | MINOOKA | 7 | 37
60554 | SUGAR GROVE | SUGAR GROVE | 7 | 37
60617 | JOHN BUCHANAN | CHICAGO | 4 | 34
60805 | EVERGREEN PARK | EVERGREEN PARK | 4 | 34
61105 | DOWNTOWN ROCKFORD | ROCKFORD | 3 | 33
61264 | MILAN | MILAN | 4 | 34
61462 | MONMOUTH | MONMOUTH | 4 | 34
61834 | DANVILLE | DANVILLE | 4 | 34
62294 | TROY | TROY | 3 | 33
62629 | CHATHAM | CHATHAM | 4 | 34
62651 | JACKSONVILLE MAIN OFFICE | JACKSONVILLE | 4 | 34
62801 | CENTRALIA | CENTRALIA | 4 | 34
MISSOURI
63016 | CEDAR HILL | CEDAR HILL | 4 | 34
63050 | HILLSBORO | HILLSBORO | 5 | 35
63069 | PACIFIC | PACIFIC | 3 | 33
63383 | WARRENTON | WARRENTON | 2 | 32
63390 | WRIGHT CITY | WRIGHT CITY | 4 | 34
64079 | PLATTE CITY | PLATTE CITY | 5 | 35
64089 | SMITHVILLE | SMITHVILLE | 6 | 36
64093 | WARRENSBURG | WARRENSBURG | 5 | 35
64114 | WALDO | KANSAS CITY | 4 | 34
64116 | NORTH KANSAS CITY | KANSAS CITY | 4 | 34
64836 | CARTHAGE | CARTHAGE | 5 | 35
65026 | ELDON | ELDON | 5 | 35
65043 | HOLTS SUMMIT | HOLTS SUMMIT | 6 | 36
65052 | LINN CREEK | LINN CREEK | 6 | 36
65065 | OSAGE BEACH | OSAGE BEACH | 7 | 37
65079 | SUNRISE BEACH | SUNRISE BEACH | 7 | 37
65102 | JEFFERSON CITY | JEFFERSON CITY | 5 | 35
65110 | CAPITOL VIEW STA | JEFFERSON CITY | 4 | 34
65473 | FORT LEONARD WOOD | FORT LEONARD WOOD | 5 | 35
65686 | KIMBERLING CITY | KIMBERLING CITY | 7 | 37
65708 | MONETT | MONETT | 5 | 35
65721 | OZARK | OZARK | 7 | 37
65742 | ROGERSVILLE | ROGERSVILLE | 6 | 36
65753 | SPARTA | SPARTA | 7 | 37
65757 | STRAFFORD | STRAFFORD | 6 | 36
65775 | WEST PLAINS | WEST PLAINS | 6 | 36
KANSAS
66012 | BONNER SPRINGS | BONNER SPRINGS | 3 | 33
66103 | ROSEDALE | KANSAS CITY | 3 | 33
66119 | ROSEDALE | KANSAS CITY | 3 | 33
66441 | JUNCTION CITY | JUNCTION CITY | 4 | 34
67114 | NEWTON | NEWTON | 4 | 34
67204 | NORTH WICHITA | WICHITA | 3 | 33
67277 | GMF RETAIL WINDOW | WICHITA | 5 | 35
67846 | GARDEN CITY | GARDEN CITY | 4 | 34
NEBRASKA
68010 | BOYS TOWN | OMAHA | 5 | 35
68131 | SADDLE CREEK | OMAHA | 5 | 35
68154 | BOYSTOWN | OMAHA | 5 | 35
68902 | HASTINGS | HASTINGS | 4 | 34
LOUISIANA
70047 | DESTREHAN | DESTREHAN | 5 | 35
70057 | HAHNVILLE | HAHNVILLE | 5 | 35
70070 | LULING | LULING | 5 | 35
70184 | LAKEVIEW FINANCE STATION | NEW ORLEANS | 4 | 34
70343 | BOURG | BOURG | 5 | 35
70420 | ABITA SPRINGS | ABITA SPRINGS | 5 | 35
70452 | PEARL RIVER | PEARL RIVER | 5 | 35
70454 | PONCHATOULA | PONCHATOULA | 4 | 34
70505 | OIL CENTER | LAFAYETTE | 3 | 33
70529 | DUSON | DUSON | 5 | 35
70555 | MAURICE | MAURICE | 6 | 36
70571 | OPELOUSAS MAIN OFFICE | OPELOUSAS | 4 | 34
70612 | MOSS BLUFF | LAKE CHARLES | 4 | 34
70704 | BAKER | BAKER | 4 | 34
70767 | PORT ALLEN | PORT ALLEN | 3 | 33
70777 | SLAUGHTER | SLAUGHTER | 5 | 35
70835 | OLD HAMMOND | BATON ROUGE | 5 | 35
70874 | SCOTLANDVILLE | BATON ROUGE | 3 | 33
71137 | INDUSTRIAL | SHREVEPORT | 4 | 34
71211 | MONROE | MONROE | 4 | 34
71213 | MONROE | MONROE | 4 | 34
71443 | LEESVILLE MAIN OFFICE | LEESVILLE | 3 | 33
71496 | LEESVILLE MAIN OFFICE | LEESVILLE | 3 | 33
ARKANSAS
71910 | HOT SPRINGS VILLAGE | HOT SPRINGS VILLAGE | 4 | 34
72002 | ALEXANDER | ALEXANDER | 7 | 37
72023 | CABOT | CABOT | 4 | 34
72078 | JACKSONVILLE | JACKSONVILLE | 4 | 34
72081 | JUDSONIA | JUDSONIA | 6 | 36
72103 | MABELVALE | MABELVALE | 7 | 37
72160 | STUTTGART | STUTTGART | 5 | 35
72216 | SOUTHSIDE | LITTLE ROCK | 4 | 34
72219 | INDUSTRIAL | LITTLE ROCK | 4 | 34
72316 | BLYTHEVILLE MAIN OFFICE | BLYTHEVILLE | 5 | 35
72451 | PARAGOULD | PARAGOULD | 5 | 35
72521 | CAVE CITY | CAVE CITY | 6 | 36
72632 | EUREKA SPRINGS | EUREKA SPRINGS | 5 | 35
72662 | OMAHA | OMAHA | 6 | 36
72745 | LOWELL | LOWELL | 7 | 37
72830 | CLARKSVILLE | CLARKSVILLE | 4 | 34
72834 | DARDANELLE | DARDANELLE | 5 | 35
72846 | LAMAR | LAMAR | 6 | 36
72913 | GMF FORT SMITH | FORT SMITH | 4 | 34
72914 | MIDLAND FORT SMITH | FORT SMITH | 4 | 34
72917 | GMF FORT SMITH | FORT SMITH | 4 | 34
OKLAHOMA
73023 | CHICKASHA | CHICKASHA | 4 | 34
73084 | SPENCER | SPENCER | 4 | 34
73093 | WASHINGTON | WASHINGTON | 6 | 36
73502 | LAWTON | LAWTON | 4 | 34
73503 | FORT SILL | FORT SILL | 4 | 34
73506 | SHERIDAN LAWTON | LAWTON | 4 | 34
73522 | ALTUS | ALTUS | 4 | 34
73540 | SHERIDAN LAWTON | LAWTON | 4 | 34
73702 | ENID | ENID | 4 | 34
73773 | WAUKOMIS | WAUKOMIS | 5 | 35
74015 | CATOOSA | CATOOSA | 5 | 35
74070 | SKIATOOK | SKIATOOK | 5 | 35
74073 | SPERRY | SPERRY | 7 | 37
74344 | GROVE MAIN OFFICE | GROVE | 6 | 36
74345 | GROVE MAIN OFFICE | GROVE | 6 | 36
74451 | PARK HILL | PARK HILL | 5 | 35
74730 | CALERA | CALERA | 5 | 35
74802 | SHAWNEE | SHAWNEE | 4 | 34
74851 | MCLOUD | MCLOUD | 6 | 36
74855 | MEEKER | MEEKER | 5 | 35
74873 | TECUMSEH | TECUMSEH | 4 | 34
74953 | POTEAU | POTEAU | 4 | 34
TEXAS
75009 | CELINA | CELINA | 5 | 35
75054 | WESTCHESTER | GRAND PRAIRIE | 3 | 33
75068 | LITTLE ELM | LITTLE ELM | 5 | 35
75078 | PROSPER | PROSPER | 5 | 35
75114 | CRANDALL | CRANDALL | 5 | 35
75124 | EUSTACE | EUSTACE | 6 | 36
75126 | FORNEY | FORNEY | 5 | 35
75141 | HUTCHINS | HUTCHINS | 5 | 35
75143 | CPU SEVEN POINTS | KEMP | 5 | 42
75151 | CORSICANA | CORSICANA | 6 | 36
75154 | RED OAK | RED OAK | 5 | 35
75159 | SEAGOVILLE | DALLAS | 3 | 33
75160 | TERRELL | TERRELL | 4 | 34
75189 | ROYSE CITY | ROYSE CITY | 5 | 35
75209 | MOCKINGBIRD FINANCE | DALLAS | 3 | 33
75211 | BEVERLY HILLS | DALLAS | 3 | 33
75219 | MOCKINGBIRD FINANCE | DALLAS | 3 | 33
75241 | HIGHLAND HILLS DALLAS | DALLAS | 3 | 33
75336 | SEAGOVILLE | DALLAS | 3 | 33
75339 | DR CAESAR A W CLARK SR | DALLAS | 3 | 33
75357 | MEDRANO | DALLAS | 3 | 33
75376 | JOE POOL | DALLAS | 3 | 33
75407 | PRINCETON | PRINCETON | 5 | 35
75410 | ALBA | ALBA | 6 | 36
75440 | EMORY | EMORY | 6 | 36
75459 | HOWE | HOWE | 6 | 36
75472 | POINT | POINT | 6 | 36
75483 | SULPHUR SPRINGS | SULPHUR SPRINGS | 5 | 35
75504 | DOWNTOWN TEXARKANA | TEXARKANA | 4 | 34
75650 | HALLSVILLE | HALLSVILLE | 6 | 36
75684 | OVERTON | OVERTON | 4 | 34
75762 | FLINT | FLINT | 6 | 36
75938 | COLMESNEIL | COLMESNEIL | 6 | 36
75979 | WOODVILLE | WOODVILLE | 4 | 34
76052 | HASLET | HASLET | 4 | 34
76098 | AZLE | AZLE | 4 | 34
76140 | SOUTHEAST | FORT WORTH | 2 | 32
76204 | TEXAS WOMANS UNIVERSITY | DENTON | 2 | 32
76225 | ALVORD | ALVORD | 4 | 34
76249 | KRUM | KRUM | 4 | 34
76266 | SANGER | SANGER | 3 | 33
76272 | VALLEY VIEW | VALLEY VIEW | 6 | 36
76528 | GATESVILLE | GATESVILLE | 4 | 34
76544 | FORT HOOD | FORT HOOD | 4 | 34
76554 | LITTLE RIVER ACADEMY | LITTLE RIVER ACADEMY | 6 | 36
76559 | NOLANVILLE | NOLANVILLE | 6 | 36
76643 | HEWITT | HEWITT | 7 | 37
76655 | LORENA | LORENA | 6 | 36
77207 | BROADWAY | HOUSTON | 4 | 34
77213 | GRANVILLE W ELDER | HOUSTON | 5 | 35
77228 | ROY ROYALL | HOUSTON | 5 | 35
77229 | GRANVILLE W ELDER | HOUSTON | 5 | 35
77262 | HARRISBURG | HOUSTON | 4 | 34
77293 | ROY ROYALL | HOUSTON | 5 | 35
77335 | GOODRICH | GOODRICH | 6 | 36
77342 | DOWNTOWN HUNTSVILLE | HUNTSVILLE | 5 | 35
77358 | NEW WAVERLY | NEW WAVERLY | 6 | 36
77404 | BAY CITY | BAY CITY | 5 | 35
77418 | BELLVILLE | BELLVILLE | 5 | 35
77422 | BRAZORIA | BRAZORIA | 7 | 37
77423 | BROOKSHIRE | BROOKSHIRE | 7 | 37
77441 | FULSHEAR | FULSHEAR | 7 | 37
77474 | SEALY | SEALY | 6 | 36
77510 | SANTA FE | SANTA FE | 7 | 37
77512 | ALVIN | ALVIN | 5 | 35
77516 | ANGLETON | ANGLETON | 6 | 36
77518 | BACLIFF | BACLIFF | 6 | 36
77522 | BAYTOWN | BAYTOWN | 5 | 35
77522 | STATION A BAYTOWN | BAYTOWN | 5 | 35
77530 | CHANNELVIEW | CHANNELVIEW | 5 | 35
77535 | DAYTON | DAYTON | 5 | 35
77542 | FREEPORT | FREEPORT | 5 | 35
77547 | GALENA PARK | GALENA PARK | 4 | 34
77562 | HIGHLANDS | HIGHLANDS | 4 | 34
77563 | HITCHCOCK | HITCHCOCK | 4 | 34
77565 | KEMAH | KEMAH | 6 | 36
77568 | LA MARQUE | LA MARQUE | 5 | 35
77580 | MONT BELVIEU | MONT BELVIEU | 6 | 36
77670 | VIDOR | VIDOR | 5 | 35
77725 | SOUTH END | BEAUMONT | 4 | 34
77902 | VICTORIA | VICTORIA | 6 | 36
78003 | BANDERA | BANDERA | 7 | 37
78025 | INGRAM MAIN OFFICE | INGRAM | 6 | 36
78104 | BEEVILLE MAIN OFFICE | BEEVILLE | 5 | 35
78124 | MARION | MARION | 5 | 35
78163 | BULVERDE | BULVERDE | 5 | 35
78216 | CPU COUNTRYSIDE PLAZA | SAN ANTONIO | 5 | 42
78224 | FRANK M TEJEDA | SAN ANTONIO | 5 | 35
78335 | ARANSAS PASS | ARANSAS PASS | 5 | 35
78368 | MATHIS | MATHIS | 5 | 35
78370 | ODEM | ODEM | 6 | 36
78374 | PORTLAND | PORTLAND | 4 | 34
78380 | ROBSTOWN | ROBSTOWN | 5 | 35
78390 | TAFT | TAFT | 4 | 34
78426 | FIVE POINTS DPOBU | CORPUS CHRISTI | 4 | 34
78460 | FIVE POINTS DPOBU | CORPUS CHRISTI | 4 | 34
78480 | FLOUR BLUFF | CORPUS CHRISTI | 4 | 34
78516 | ALAMO | ALAMO | 4 | 34
78522 | DOWNTOWN BROWNSVILLE | BROWNSVILLE | 5 | 35
78526 | RESACA VLG DPOBU | BROWNSVILLE | 5 | 35
78540 | EDINBURG | EDINBURG | 5 | 35
78566 | LOS FRESNOS | LOS FRESNOS | 4 | 34
78575 | OLMITO | OLMITO | 6 | 36
78576 | PENITAS | PENITAS | 6 | 36
78579 | PROGRESO | PROGRESO | 6 | 36
78582 | RIO GRANDE CITY | RIO GRANDE CITY | 4 | 34
78584 | ROMA | ROMA | 6 | 36
78586 | SAN BENITO | SAN BENITO | 5 | 35
78597 | SOUTH PADRE ISLAND | SOUTH PADRE ISLAND | 4 | 34
78602 | BASTROP | BASTROP | 5 | 35
78611 | BURNET | BURNET | 4 | 34
78634 | HUTTO | HUTTO | 7 | 37
78653 | MANOR | MANOR | 6 | 36
78655 | MARTINDALE | MARTINDALE | 6 | 36
78657 | HORSESHOE BAY | HORSESHOE BAY | 4 | 34
78669 | SPICEWOOD | SPICEWOOD | 6 | 36
78676 | WIMBERLEY | WIMBERLEY | 7 | 37
79066 | PAMPA | PAMPA | 6 | 36
79702 | DOWNTOWN MIDLAND | MIDLAND | 5 | 35
79704 | VILLAGE | MIDLAND | 4 | 34
79710 | CLAYDESTA | MIDLAND | 4 | 34
79758 | GARDENDALE | GARDENDALE | 5 | 35
79769 | WEST ODESSA | ODESSA | 6 | 36
79782 | STANTON | STANTON | 6 | 36
79835 | CANUTILLO | CANUTILLO | 5 | 35
79929 | SOCORRO | SOCORRO | 5 | 35
COLORADO
80026 | LAFAYETTE | LAFAYETTE | 3 | 33
80107 | ELIZABETH | ELIZABETH | 5 | 35
80116 | FRANKTOWN | FRANKTOWN | 6 | 36
80117 | KIOWA | KIOWA | 5 | 35
80135 | SEDALIA | SEDALIA | 5 | 35
80403 | CPU CRESCENT | GOLDEN | 5 | 42
80435 | DILLION | DILLON | 5 | 35
80443 | FRISCO | FRISCO | 5 | 35
80455 | NEDERLAND | NEDERLAND | 6 | 36
80466 | NEDERLAND | NEDERLAND | 6 | 36
80497 | SILVERTHORNE | SILVERTHORNE | 5 | 35
80498 | SILVERTHORNE | SILVERTHORNE | 5 | 35
80512 | BELLVUE | BELLVUE | 5 | 35
80516 | ERIE | ERIE | 5 | 35
80535 | LAPORTE | LAPORTE | 5 | 35
80817 | FOUNTAIN | FOUNTAIN | 3 | 33
80840 | USAF ACADEMY | USAF ACADEMY | 3 | 33
80841 | USAF ACADEMY | USAF ACADEMY | 3 | 33
80902 | FORT CARSON | COLORADO SPRINGS | 3 | 33
80931 | SECURITY | COLORADO SPRINGS | 3 | 33
81004 | SUNSET | PUEBLO | 4 | 34
81005 | SUNSET | PUEBLO | 4 | 34
81230 | GUNNISON | GUNNISON | 4 | 34
81321 | CORTEZ | CORTEZ | 4 | 34
81419 | HOTCHKISS | HOTCHKISS | 6 | 36
81612 | ASPEN | ASPEN | 4 | 34
81615 | SNOWMASS VILLAGE | SNOWMASS VILLAGE | 3 | 33
81621 | BASALT | BASALT | 5 | 35
81645 | MINTURN | MINTURN | 6 | 36
WYOMING
82003 | AIRPORT | CHEYENNE | 5 | 35
82003 | CAPITOL STA | CHEYENNE | 5 | 35
82435 | POWELL | POWELL | 5 | 35
82636 | EVANSVILLE | EVANSVILLE | 7 | 37
82701 | NEWCASTLE | NEWCASTLE | 5 | 35
82941 | PINEDALE | PINEDALE | 6 | 36
IDAHO
83202 | GATEWAY STATION | POCATELLO | 4 | 34
83206 | GATEWAY STATION | POCATELLO | 4 | 34
83328 | FILER | FILER | 5 | 35
83338 | JEROME | JEROME | 4 | 34
83341 | KIMBERLY | KIMBERLY | 5 | 35
83347 | PAUL | PAUL | 5 | 35
83353 | SUN VALLEY | SUN VALLEY | 5 | 35
83354 | SUN VALLEY | SUN VALLEY | 5 | 35
83355 | WENDELL | WENDELL | 5 | 35
83403 | IDAHO FALLS | IDAHO FALLS | 4 | 34
83405 | EAGLE ROCK | IDAHO FALLS | 4 | 34
83606 | CALDWELL | CALDWELL | 4 | 34
83611 | CASCADE | CASCADE | 6 | 36
83615 | DONNELLY | DONNELLY | 5 | 35
83619 | FRUITLAND | FRUITLAND | 6 | 36
83638 | MCCALL | MCCALL | 6 | 36
83644 | MIDDLETON | MIDDLETON | 5 | 35
83661 | PAYETTE | PAYETTE | 5 | 35
83669 | STAR | STAR | 4 | 34
83805 | BONNERS FERRY | BONNERS FERRY | 6 | 36
83837 | KELLOGG | KELLOGG | 4 | 34
83839 | KINGSTON | KINGSTON | 5 | 35
83850 | PINEHURST | PINEHURST | 5 | 35
83858 | RATHDRUM | RATHDRUM | 5 | 35
UTAH
84026 | FORT DUCHESNE | FORT DUCHESNE | 5 | 35
84043 | LEHI | LEHI | 3 | 33
84049 | MIDWAY | MIDWAY | 5 | 35
84066 | ROOSEVELT | ROOSEVELT | 3 | 33
84078 | VERNAL | VERNAL | 3 | 33
84079 | VERNAL | VERNAL | 3 | 33
84310 | EDEN | EDEN | 5 | 35
84341 | NORTH LOGAN | LOGAN | 4 | 34
84532 | MOAB | MOAB | 4 | 34
84603 | PROVO | PROVO | 3 | 33
84653 | SALEM | SALEM | 5 | 35
84765 | SANTA CLARA | SANTA CLARA | 5 | 35
ARIZONA
85117 | APACHE JUNCTION | APACHE JUNCTION | 7 | 37
85130 | CASA GRANDE | CASA GRANDE | 5 | 35
85132 | FLORENCE | FLORENCE | 6 | 36
85178 | APACHE JUNCTION | APACHE JUNCTION | 7 | 37
85324 | BLACK CANYON CITY | BLACK CANYON CITY | 5 | 35
85326 | BUCKEYE | BUCKEYE | 4 | 34
85334 | EHRENBERG | EHRENBERG | 5 | 35
85343 | BUCKEYE | BUCKEYE | 4 | 34
85344 | PARKER | PARKER | 3 | 33
85346 | QUARTZSITE | QUARTZSITE | 5 | 35
85350 | SOMERTON | SOMERTON | 5 | 35
85359 | QUARTZSITE | QUARTZSITE | 5 | 35
85547 | PAYSON | PAYSON | 3 | 33
85602 | BENSON | BENSON | 5 | 35
85608 | DOUGLAS | DOUGLAS | 3 | 33
85628 | NOGALES | NOGALES | 4 | 34
85629 | SAHUARITA | SAHUARITA | 5 | 35
85648 | RIO RICO | RIO RICO | 4 | 34
85652 | CORTARO | CORTARO | 6 | 36
85902 | SHOW LOW MAIN OFFICE | SHOW LOW | 5 | 35
85929 | LAKESIDE | LAKESIDE | 5 | 35
85935 | PINETOP | PINETOP | 5 | 35
86025 | HOLBROOK | HOLBROOK | 3 | 33
86322 | CAMP VERDE | CAMP VERDE | 5 | 35
86324 | CLARKDALE | CLARKDALE | 5 | 35
86327 | DEWEY | DEWEY | 5 | 35
86333 | MAYER | MAYER | 5 | 35
86335 | RIMROCK | RIMROCK | 5 | 35
86427 | FORT MOHAVE | FORT MOHAVE | 3 | 33
86441 | DOLAN SPRINGS | DOLAN SPRINGS | 4 | 34
86446 | MOHAVE VALLEY | MOHAVE VALLEY | 2 | 32
NEW MEXICO
87001 | BERNALILLO | BERNALILLO | 4 | 34
87004 | BERNALILLO | BERNALILLO | 4 | 34
87013 | CUBA | CUBA | 4 | 34
87043 | PLACITAS | PLACITAS | 5 | 35
87185 | KIRTLAND AFB | ALBUQUERQUE | 2 | 32
87325 | TOHATCHI | TOHATCHI | 5 | 35
87326 | VANDERWAGEN | VANDERWAGEN | 3 | 40
87499 | FARMINGTON | FARMINGTON | 3 | 33
87529 | EL PRADO | EL PRADO | 5 | 35
87544 | LOS ALAMOS | LOS ALAMOS | 4 | 34
87557 | RANCHOS DE TAOS | RANCHOS DE TAOS | 5 | 35
87574 | TESUQUE | TESUQUE | 5 | 35
88003 | UNIVERSITY PARK | LAS CRUCES | 3 | 33
88008 | SANTA TERESA | SANTA TERESA | 5 | 35
88013 | COMMERCE | LAS CRUCES | 3 | 33
88031 | DEMING | DEMING | 4 | 34
88032 | DONA ANA | DONA ANA | 5 | 35
88033 | FAIRACRES | FAIRACRES | 5 | 35
88046 | MESILLA | MESILLA | 5 | 35
88221 | CARLSBAD | CARLSBAD | 4 | 34
88241 | HOBBS | HOBBS | 4 | 34
88311 | ALAMOGORDO | ALAMOGORDO | 3 | 33
88312 | ALTO | ALTO | 5 | 35
88337 | LA LUZ | LA LUZ | 5 | 35
88340 | MESCALERO | MESCALERO | 5 | 35
88346 | RUIDOSO DOWNS | RUIDOSO DOWNS | 5 | 35
88355 | HOLLYWOOD | RUIDOSO | 4 | 34
88355 | RUIDOSO | RUIDOSO | 4 | 34
NEVADA
89041 | HOMESTEAD | PAHRUMP | 5 | 35
89060 | SIMKINS | PAHRUMP | 5 | 35
89408 | FERNLEY | FERNLEY | 5 | 35
89411 | GENOA | GENOA | 4 | 34
89423 | MINDEN | MINDEN | 5 | 35
89510 | RENO | RENO | 3 | 33
89515 | RENO | RENO | 3 | 33
89803 | ELKO | ELKO | 2 | 32
89815 | SPRING CREEK | SPRING CREEK | 2 | 32
CALIFORNIA
91903 | ALPINE | ALPINE | 5 | 35
91906 | CAMPO | CAMPO | 5 | 35
91916 | DESCANSO | DESCANSO | 4 | 34
91935 | JAMUL | JAMUL | 5 | 35
91963 | POTRERO | POTRERO | 5 | 35
91979 | LA MESA | SPRING VALLEY | 4 | 34
91980 | TECATE | TECATE | 4 | 34
92003 | BONSALL | BONSALL | 4 | 34
92059 | PALA | PALA | 4 | 34
92061 | PAUMA VALLEY | PAUMA VALLEY | 6 | 36
92082 | VALLEY CENTER | VALLEY CENTER | 6 | 36
92145 | MCAS MIRAMAR | SAN DIEGO | 3 | 33
92220 | BANNING | BANNING | 3 | 33
92226 | BLYTHE | BLYTHE | 4 | 34
92244 | EL CENTRO | EL CENTRO | 4 | 34
92252 | JOSHUA TREE | JOSHUA TREE | 3 | 33
92256 | MORONGO VALLEY | MORONGO VALLEY | 4 | 34
92274 | THERMAL | THERMAL | 5 | 35
92283 | WINTERHAVEN | WINTERHAVEN | 5 | 35
92285 | LANDERS | LANDERS | 2 | 32
92286 | YUCCA VALLEY | YUCCA VALLEY | 2 | 32
92301 | ADELANTO | ADELANTO | 2 | 32
92312 | BARSTOW | BARSTOW | 4 | 34
92314 | BIG BEAR CITY | BIG BEAR CITY | 4 | 34
92316 | BLOOMINGTON | BLOOMINGTON | 3 | 33
92342 | HELENDALE | HELENDALE | 6 | 36
92352 | LAKE ARROWHEAD | LAKE ARROWHEAD | 5 | 35
92372 | PINON HILLS | PINON HILLS | 6 | 36
92402 | SAN BERNARDINO | SAN BERNARDINO | 3 | 33
92406 | UPTOWN | SAN BERNARDINO | 2 | 32
92411 | WESTSIDE | SAN BERNARDINO | 2 | 32
92423 | SAN BERNARDINO MO WINDOWS | SAN BERNARDINO | 3 | 33
92518 | MARCH AIR RESERVE BASE | MARCH AIR RESERVE BASE | 3 | 33
92536 | AGUANGA | AGUANGA | 4 | 34
92572 | PERRIS | PERRIS | 2 | 32
92596 | WINCHESTER | WINCHESTER | 4 | 34
92609 | EL TORO | LAKE FOREST | 5 | 35
92676 | SILVERADO | SILVERADO | 4 | 34
92684 | BOLSA STATION | WESTMINSTER | 3 | 33
93016 | FILLMORE | FILLMORE | 4 | 34
93024 | OJAI | OJAI | 3 | 33
93066 | SOMIS | SOMIS | 5 | 35
93140 | MILPAS NEW | SANTA BARBARA | 3 | 33
93202 | ARMONA | ARMONA | 5 | 35
93203 | ARVIN | ARVIN | 3 | 33
93241 | LAMONT | LAMONT | 2 | 32
93245 | LEMOORE | LEMOORE | 3 | 33
93263 | SHAFTER | SHAFTER | 4 | 34
93267 | STRATHMORE | STRATHMORE | 5 | 35
93280 | WASCO | WASCO | 4 | 34
93313 | PUMPKIN CENTER | BAKERSFIELD | 5 | 42
93387 | BRUNDAGE | BAKERSFIELD | 4 | 34
93428 | CAMBRIA | CAMBRIA | 3 | 33
93430 | CAYUCOS | CAYUCOS | 3 | 33
93441 | LOS OLIVOS | LOS OLIVOS | 5 | 35
93456 | SANTA MARIA | SANTA MARIA | 3 | 33
93460 | SANTA YNEZ | SANTA YNEZ | 5 | 35
93465 | TEMPLETON | TEMPLETON | 5 | 35
93502 | MOJAVE | MOJAVE | 5 | 35
93504 | CALIFORNIA CITY | CALIFORNIA CITY | 3 | 33
93510 | ACTON | ACTON | 4 | 34
93532 | LAKE HUGHES | LAKE HUGHES | 4 | 34
93539 | LANCASTER | LANCASTER | 2 | 32
93543 | LITTLEROCK | LITTLEROCK | 6 | 36
93553 | PEARBLOSSOM | PEARBLOSSOM | 4 | 34
93556 | RIDGECREST | RIDGECREST | 5 | 35
93560 | ROSAMOND | ROSAMOND | 5 | 35
93581 | TEHACHAPI | TEHACHAPI | 3 | 33
93584 | CEDAR | LANCASTER | 3 | 33
93590 | TOWN SQUARE | PALMDALE | 2 | 32
93618 | DINUBA | DINUBA | 3 | 33
93630 | KERMAN | KERMAN | 4 | 34
93644 | OAKHURST | OAKHURST | 6 | 36
93648 | PARLIER | PARLIER | 4 | 34
93654 | REEDLEY | REEDLEY | 6 | 36
93657 | SANGER | SANGER | 4 | 34
93745 | CALWA | FRESNO | 3 | 33
93747 | EAST FRESNO | FRESNO | 3 | 33
93926 | GONZALES | GONZALES | 4 | 34
93927 | GREENFIELD | GREENFIELD | 6 | 36
94015 | WESTLAKE | DALY CITY | 1 | 31
94141 | BRYANT STREET | SAN FRANCISCO | 3 | 33
94508 | ANGWIN | ANGWIN | 5 | 35
94573 | RUTHERFORD | RUTHERFORD | 5 | 35
94574 | SAINT HELENA | SAINT HELENA | 3 | 33
94576 | ANGWIN | ANGWIN | 5 | 35
94661 | MONTCLAIR STATION (STATION E) | OAKLAND | 2 | 32
94923 | BODEGA BAY | BODEGA BAY | 5 | 35
95004 | AROMAS | AROMAS | 4 | 34
95012 | CASTROVILLE | CASTROVILLE | 2 | 32
95039 | MOSS LANDING | MOSS LANDING | 4 | 34
95045 | SAN JUAN BAUTISTA | SAN JUAN BAUTISTA | 4 | 34
95127 | FOOTHILL ANNEX | SAN JOSE | 3 | 33
95156 | FOOTHILL ANNEX | SAN JOSE | 3 | 33
95220 | ACAMPO | ACAMPO | 5 | 35
95310 | COLUMBIA | COLUMBIA | 5 | 35
95321 | GROVELAND | GROVELAND | 5 | 35
95322 | GUSTINE | GUSTINE | 4 | 34
95324 | HILMAR | HILMAR | 5 | 35
95327 | JAMESTOWN | JAMESTOWN | 5 | 35
95334 | LIVINGSTON | LIVINGSTON | 4 | 34
95338 | MARIPOSA | MARIPOSA | 5 | 35
95360 | NEWMAN | NEWMAN | 4 | 34
95422 | CLEARLAKE | CLEARLAKE | 5 | 35
95423 | CLEARLAKE OAKS | CLEARLAKE OAKS | 5 | 35
95424 | CLEARLAKE PARK | CLEARLAKE PARK | 5 | 35
95436 | FORESTVILLE | FORESTVILLE | 4 | 34
95441 | GEYSERVILLE | GEYSERVILLE | 5 | 35
95451 | KELSEYVILLE | KELSEYVILLE | 5 | 35
95457 | LOWER LAKE | LOWER LAKE | 5 | 35
95518 | ARCATA | ARCATA | 4 | 34
95524 | BAYSIDE | BAYSIDE | 5 | 35
95531 | CRESCENT CITY | CRESCENT CITY | 4 | 34
95534 | CUTTEN | EUREKA | 4 | 34
95542 | GARBERVILLE | GARBERVILLE | 4 | 34
95560 | REDWAY | REDWAY | 5 | 35
95612 | CLARKSBURG | CLARKSBURG | 4 | 34
95614 | COOL | COOL | 4 | 34
95638 | HERALD | HERALD | 5 | 35
95663 | PENRYN | PENRYN | 5 | 35
95683 | SLOUGHHOUSE | SLOUGHHOUSE | 4 | 34
95684 | SOMERSET | SOMERSET | 5 | 35
95901 | MARYSVILLE | MARYSVILLE | 4 | 34
95938 | DURHAM | DURHAM | 6 | 36
95953 | LIVE OAK | LIVE OAK | 3 | 33
95954 | MAGALIA | MAGALIA | 5 | 35
96007 | ANDERSON | ANDERSON | 4 | 34
96019 | SHASTA LAKE | SHASTA LAKE | 4 | 34
96022 | COTTONWOOD | COTTONWOOD | 5 | 35
96073 | PALO CEDRO | PALO CEDRO | 5 | 35
96151 | SOUTH LAKE TAHOE | SOUTH LAKE TAHOE | 6 | 36
96155 | MEYERS | SOUTH LAKE TAHOE | 6 | 36
96156 | SOUTH LAKE TAHOE | SOUTH LAKE TAHOE | 6 | 36
96158 | SOUTH LAKE TAHOE | SOUTH LAKE TAHOE | 6 | 36
96158 | TAHOE VALLEY | SOUTH LAKE TAHOE | 6 | 36
HAWAII
96708 | HAIKU | HAIKU | 5 | 35
96712 | HALEIWA | HALEIWA | 1 | 31
96714 | HANALEI | HANALEI | 5 | 35
96720 | DOWNTOWN HILO | HILO | 2 | 32
96720 | HILO | HILO | 2 | 32
96721 | DOWNTOWN HILO | HILO | 2 | 32
96722 | PRINCEVILLE | PRINCEVILLE | 5 | 35
96725 | HOLUALOA | HOLUALOA | 3 | 33
96733 | KAHULUI | KAHULUI | 2 | 32
96738 | WAIKOLOA | WAIKOLOA | 4 | 34
96743 | KAMUELA | KAMUELA | 4 | 34
96749 | KEAAU | KEAAU | 5 | 35
96750 | KEALAKEKUA | KEALAKEKUA | 4 | 34
96754 | KILAUEA | KILAUEA | 4 | 34
96755 | KAPAAU | KAPAAU | 5 | 35
96756 | KOLOA | KOLOA | 3 | 33
96760 | KURTISTOWN | KURTISTOWN | 4 | 34
96768 | MAKAWAO | MAKAWAO | 6 | 36
96771 | MOUNTAIN VIEW | MOUNTAIN VIEW | 4 | 34
96778 | PAHOA | PAHOA | 4 | 34
96779 | PAIA | PAIA | 3 | 33
96784 | PUUNENE | PUUNENE | 4 | 34
96786 | WAHIAWA | WAHIAWA | 3 | 33
96788 | PUKALANI | MAKAWAO | 6 | 36
96790 | KULA | KULA | 4 | 34
96791 | WAIALUA | WAIALUA | 4 | 34
96792 | NANAKULI | WAIANAE | 3 | 33
96793 | WAILUKU | WAILUKU | 1 | 31
OREGON
97002 | AURORA | AURORA | 5 | 35
97004 | BEAVERCREEK | BEAVERCREEK | 5 | 35
97009 | BORING | BORING | 5 | 35
97018 | COLUMBIA CITY | COLUMBIA CITY | 4 | 34
97019 | CORBETT | CORBETT | 4 | 34
97023 | ESTACADA | ESTACADA | 6 | 36
97026 | GERVAIS | GERVAIS | 5 | 35
97040 | MOSIER | MOSIER | 5 | 35
97048 | RAINIER | RAINIER | 5 | 35
97051 | SAINT HELENS | SAINT HELENS | 4 | 34
97056 | SCAPPOOSE | SCAPPOOSE | 5 | 35
97058 | THE DALLES | THE DALLES | 4 | 34
97101 | AMITY | AMITY | 5 | 35
97103 | ASTORIA | ASTORIA | 3 | 33
97111 | CARLTON | CARLTON | 5 | 35
97114 | DAYTON | DAYTON | 4 | 34
97127 | LAFAYETTE | LAFAYETTE | 4 | 34
97133 | NORTH PLAINS | NORTH PLAINS | 5 | 35
97137 | SAINT PAUL | SAINT PAUL | 5 | 35
97148 | YAMHILL | YAMHILL | 5 | 35
97303 | KEIZER | KEIZER | 3 | 33
97305 | OAK PARK 97305 PO BOXES | SALEM | 4 | 34
97307 | KEIZER | KEIZER | 3 | 33
97321 | ALBANY | ALBANY | 5 | 35
97321 | CPU PLAZA POSTAL & SHIPPING | ALBANY | 5 | 42
97338 | DALLAS | DALLAS | 4 | 34
97352 | JEFFERSON | JEFFERSON | 5 | 35
97355 | LEBANON | LEBANON | 5 | 35
97364 | NEOTSU | NEOTSU | 5 | 35
97365 | NEWPORT | NEWPORT | 3 | 33
97366 | SOUTH BEACH | SOUTH BEACH | 4 | 34
97367 | LINCOLN CITY | LINCOLN CITY | 2 | 32
97370 | PHILOMATH | PHILOMATH | 5 | 35
97374 | SCIO | SCIO | 6 | 36
97376 | SEAL ROCK | SEAL ROCK | 5 | 42
97391 | TOLEDO | TOLEDO | 3 | 33
97392 | TURNER | TURNER | 5 | 35
97411 | BANDON | BANDON | 5 | 35
97415 | BROOKINGS | BROOKINGS | 5 | 35
97415 | HARBOR | BROOKINGS | 5 | 42
97432 | DILLARD | DILLARD | 5 | 35
97439 | FLORENCE | FLORENCE | 5 | 35
97462 | OAKLAND | OAKLAND | 5 | 35
97479 | SUTHERLIN | SUTHERLIN | 5 | 35
97495 | WINCHESTER | WINCHESTER | 5 | 35
97496 | WINSTON | WINSTON | 5 | 35
97503 | WHITE CITY | WHITE CITY | 3 | 33
97524 | EAGLE POINT | EAGLE POINT | 5 | 35
97537 | ROGUE RIVER | ROGUE RIVER | 5 | 35
97540 | TALENT | TALENT | 5 | 35
97602 | KLAMATH FALLS 97602 PO BOXES | KLAMATH FALLS | 4 | 34
97707 | SUNRIVER | BEND | 3 | 33
97708 | BEND | BEND | 4 | 34
97709 | BEND DOWNTOWN | BEND | 4 | 34
97739 | LA PINE | LA PINE | 5 | 35
97741 | MADRAS | MADRAS | 4 | 34
97754 | PRINEVILLE | PRINEVILLE | 4 | 34
97759 | SISTERS | SISTERS | 5 | 35
97760 | TERREBONNE | TERREBONNE | 5 | 35
97801 | PENDLETON | PENDLETON | 3 | 33
97826 | ECHO | ECHO | 5 | 35
97838 | HERMISTON | HERMISTON | 3 | 33
97875 | STANFIELD | STANFIELD | 5 | 35
97882 | UMATILLA | UMATILLA | 6 | 36
97914 | ONTARIO | ONTARIO | 4 | 34
WASHINGTON
98010 | BLACK DIAMOND | BLACK DIAMOND | 5 | 35
98022 | ENUMCLAW | ENUMCLAW | 3 | 33
98024 | FALL CITY | FALL CITY | 5 | 35
98051 | RAVENSDALE | RAVENSDALE | 4 | 34
98070 | VASHON | VASHON | 4 | 34
98204 | PAINE FIELD | EVERETT | 4 | 34
98221 | ANACORTES | ANACORTES | 4 | 34
98231 | BLAINE | BLAINE | 3 | 33
98232 | BOW | BOW | 5 | 35
98236 | CLINTON | CLINTON | 4 | 34
98240 | CUSTER | CUSTER | 4 | 34
98243 | DEER HARBOR | DEER HARBOR | 5 | 35
98247 | EVERSON | EVERSON | 5 | 35
98248 | FERNDALE | FERNDALE | 5 | 35
98249 | FREELAND | FREELAND | 5 | 35
98250 | FRIDAY HARBOR | FRIDAY HARBOR | 5 | 35
98252 | GRANITE FALLS | GRANITE FALLS | 5 | 35
98260 | LANGLEY | LANGLEY | 5 | 35
98264 | LYNDEN | LYNDEN | 3 | 33
98276 | EVERSON | EVERSON | 5 | 35
98284 | SEDRO WOOLLEY | SEDRO WOOLLEY | 4 | 34
98295 | SUMAS | SUMAS | 5 | 35
98312 | WEST HILLS | BREMERTON | 2 | 32
98315 | BANGOR SUBMARINE BASE | SILVERDALE | 4 | 34
98321 | BUCKLEY | BUCKLEY | 4 | 34
98322 | BURLEY | BURLEY | 4 | 34
98324 | CARLSBORG | CARLSBORG | 5 | 35
98325 | CHIMACUM | CHIMACUM | 5 | 35
98338 | GRAHAM | GRAHAM | 4 | 34
98339 | PORT HADLOCK | PORT HADLOCK | 5 | 35
98340 | HANSVILLE | HANSVILLE | 4 | 34
98346 | KINGSTON | KINGSTON | 4 | 34
98359 | OLALLA | OLALLA | 4 | 34
98365 | PORT LUDLOW | PORT LUDLOW | 5 | 35
98376 | QUILCENE | QUILCENE | 5 | 35
98380 | SEABECK | SEABECK | 4 | 34
98433 | FORT LEWIS | JOINT BASE LEWIS MCCHORD | 2 | 32
98501 | CPU SAFEWAY 7 | TUMWATER | 3 | 40
98524 | ALLYN | ALLYN | 5 | 35
98528 | BELFAIR | BELFAIR | 5 | 35
98537 | COSMOPOLIS | COSMOPOLIS | 5 | 35
98550 | HOQUIAM | HOQUIAM | 4 | 34
98580 | ROY | ROY | 4 | 34
98584 | SHELTON | SHELTON | 4 | 34
98592 | UNION | UNION | 5 | 35
98601 | AMBOY | AMBOY | 4 | 34
98626 | KELSO | KELSO | 3 | 33
98629 | LA CENTER | LA CENTER | 5 | 35
98635 | LYLE | LYLE | 5 | 35
98642 | RIDGEFIELD | RIDGEFIELD | 5 | 35
98672 | WHITE SALMON | WHITE SALMON | 5 | 35
98674 | WOODLAND | WOODLAND | 5 | 35
98675 | YACOLT | YACOLT | 5 | 35
98826 | LEAVENWORTH | LEAVENWORTH | 3 | 33
98831 | MANSON | MANSON | 5 | 35
98841 | OMAK | OMAK | 5 | 35
98847 | PESHASTIN | PESHASTIN | 5 | 35
98908 | CPU WIDE HOLLOW | YAKIMA | 4 | 41
98922 | CLE ELUM | CLE ELUM | 4 | 34
98936 | MOXEE | MOXEE | 5 | 35
98937 | NACHES | NACHES | 5 | 35
98942 | SELAH | SELAH | 4 | 34
98944 | SUNNYSIDE | SUNNYSIDE | 3 | 33
98951 | WAPATO | WAPATO | 4 | 34
99004 | CHENEY | CHENEY | 4 | 34
99021 | MEAD | MEAD | 5 | 35
99025 | NEWMAN LAKE | NEWMAN LAKE | 5 | 35
99139 | IONE | IONE | 5 | 35
99157 | NORTHPORT | NORTHPORT | 5 | 35
99301 | DOWNTOWN PASCO | PASCO | 4 | 34
99301 | PASCO | PASCO | 4 | 34
99302 | PASCO | PASCO | 4 | 34
99402 | ASOTIN | ASOTIN | 5 | 35
ALASKA
99611 | KENAI | KENAI | 2 | 32
99623 | MEADOW LAKE | WASILLA | 2 | 32
99635 | NIKISKI | NIKISKI | 1 | 31
99654 | BRENTWOOD | WASILLA | 2 | 32
99901 | KETCHIKAN | KETCHIKAN | 1 | 31

[FR Doc. 2014-16091 Filed 7-8-14; 8:45 am]

BILLING CODE 7710-12-P